DEPARTMENT OF TRANSPORTATION

Federal Aviation Administration

14 CFR Parts 61, 63, and 65

[Docket No. FAA-2022-1463; Notice No. 23-02]

RIN 2120-AL74

Airman Certification Standards and Practical Test Standards for Airmen; Incorporation by Reference

AGENCY: Federal Aviation Administration (FAA), Department of Transportation (DOT).

ACTION: Notice of proposed rulemaking (NPRM).

SUMMARY: The FAA proposes to revise certain regulations governing airman certification. Specifically, the FAA Airman Certification Standards and Practical Test Standards are currently utilized as the testing standard for practical tests and proficiency checks for persons seeking or holding an airman certificate or rating. The FAA proposes to incorporate these Airman Certification Standards and Practical Test Standards by reference into the certification requirements for pilots, flight instructors, flight engineers, aircraft dispatchers, and parachute riggers.

DATES: Send comments on or before January 11, 2023.

ADDRESSES: Send comments identified by docket number FAA-2022-1463 using any of the following methods:

• Federal eRulemaking Portal: Go to http://www.regulations.gov and follow the online instructions for sending your comments electronically.

• Mail: Send comments to Docket Operations, M-30; U.S. Department of Transportation (DOT), 1200 New Jersey Avenue SE, Room W12-140, West Building Ground Floor, Washington, DC 20590-0001.

• Hand Delivery or Courier: Take comments to Docket Operations in Room W12-140 of the West Building Ground Floor at 1200 New Jersey Avenue SE, Washington, DC, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to https://www.regulations.gov, as described in the system of records notice (DOT/ALL-14 FDMS), which can be reviewed at www.dot.gov/privacy.

Docket: Background documents or comments received may be read at http://www.regulations.gov at any time. Follow the online instructions for accessing the docket or go to the Docket Operations in Room W12-140 of the West Building Ground Floor at 1200 New Jersey Avenue SE, Washington, DC, between 9 a.m. and 5 p.m., Monday through Friday, except Federal holidays.

FOR FURTHER INFORMATION CONTACT: Daron Malmborg, Airman Testing Standards Branch, AFS-630, Federal Aviation Administration, P.O. Box 25082, Oklahoma City, OK 73125; (405) 954-4151; AFS630comments@faa.gov.

SUPPLEMENTARY INFORMATION:

List of Abbreviations and Acronyms Frequently Used in This Document

Administrative Procedure Act (APA)

Airman Certification Standards (ACS)

Airline Transport Pilot (ATP)

Instrument Proficiency Check (IPC)

Instrument Flight Rules (IFR)

Incorporation by Reference (IBR)

Pilot-in-Command Proficiency Check (PIC PC)

Practical Test Standards (PTS)

Visual Flight Rules (VFR)

Table of Contents

I. Executive Summary

II. Authority for This Rulemaking

III. Discussion of the Proposal

A. Background and Incorporation by Reference

B. Part 61: Pilots and Flight Instructors

C. Part 63: Flight Engineers

D. Part 65: Aircraft Dispatchers and Parachute Riggers

IV. Regulatory Notices and Analyses

A. Regulatory Evaluation

B. Regulatory Flexibility Act

C. International Trade Impact Assessment

D. Unfunded Mandates Assessment

E. Paperwork Reduction Act

F. International Compatibility

G. Environmental Analysis

V. Executive Order Determinations

A. Executive Order 13132, Federalism

B. Executive Order 13211, Regulations That Significantly Affect Energy Supply, Distribution, or Use

C. Executive Order 13609, International Cooperation

VI. Additional Information

A. Comments Invited

B. Electronic Access and Filing

I. Executive Summary

This rulemaking proposes several amendments to parts 61, 63, and 65 of Title 14 of the Code of Federal Regulations (14 CFR) by incorporating by reference (IBR) the Airman Certification Standards (ACS) and Practical Test Standards (PTS). The ACSs and PTSs are currently utilized as the practical test testing standard for airman certificates and ratings. The FAA notes that there are no major substantive changes proposed to the testing standards that are already in use or the process by which the practical test is conducted. Rather, the FAA proposes this rulemaking to bring the ACSs and PTSs into the FAA regulations through the proper notice and comment process required by the Administrative Procedure Act (APA),¹ as discussed in section III.A. of this preamble.

¹ 5 U.S.C. 551-559.

As explained in section III.B. of this preamble, the FAA proposes to IBR thirty (30) pilot and flight instructor ACSs and PTSs in part 61 by adding a centralized IBR section in new § 61.14. The FAA proposes to direct compliance on the respective practical tests and proficiency checks with the appropriate ACSs and PTSs through proposed revisions in §§ 61.43, 61.57, 61.58, 61.321, and 61.419. Additionally, the FAA proposes to add an appendix to part 61, which will concisely set forth which ACS or PTS is applicable to the certificate and/or rating sought or proficiency check to be conducted. The FAA is also proposing a nonsubstantive conforming amendment to § 61.157 to align the Airline Transport Pilot (ATP) airplane and powered-lift flight proficiency areas of operation with the areas of operation contained in the ATP and Type Rating for Airplane Category ACS and ATP and Type Rating for Powered-Lift Category ACS, respectively.

As explained in section III.C. of this preamble, the FAA proposes to revise part 63 to IBR the Flight Engineer PTS by revising § 63.39. Additionally, the FAA proposes minor editorial revisions to remove gender references.

As explained in section III.D. of this preamble, the FAA proposes to revise part 65 to IBR the Aircraft Dispatcher and Parachute Rigger PTSs. Specifically, the FAA proposes to add both PTSs to the existing centralized IBR section, § 65.23. The FAA proposes to revise the appropriate sections in subpart C and subpart F of part 65 (i.e., §§ 65.59, 65.115, 65.119, 65.123) to require compliance with the respective PTS.

II. Authority for This Rulemaking

The FAA's authority to issue rules regarding aviation safety is found in Title 49 of the United States Code. Subtitle I, Section 106, describes the authority of the FAA Administrator to promulgate regulations and rules. Subtitle VII, Aviation Programs, describes in more detail the scope of the agency's authority.

This proposed rulemaking is promulgated under the authority granted to the Administrator in 49 U.S.C. Subtitle VII, Part A, Subpart iii, Chapter 401, Section 40113 (prescribing general authority of the Administrator of the FAA with respect to aviation safety duties and powers to prescribe regulations) and Subpart III, Chapter 447, Sections 44701 (general authority of the Administrator to promote safe flight of civil aircraft in air commerce by prescribing regulations and setting minimum standards for other practices, methods, and procedures necessary for safety in air commerce and national security), 44702 (general authority of the Administrator to issue airman certificates), and 44703 (general authority of the Administrator to prescribe regulations for the issuance of airman certificates when the Administrator finds, after investigation, that an individual is qualified for and physically able to perform the duties related to the position authorized by the certificate). This rulemaking proposal is within the scope of that authority.

III. Discussion of the Proposal

A. Background and Incorporation by Reference

Under 49 U.S.C. 44703, the Administrator of the FAA possesses the authority to issue airman certificates when the Administrator finds, after investigation, that an individual is qualified for and able to perform the duties related to the position authorized by the certificate.² The Administrator carries out this investigative authority through 14 CFR parts 61, 63, and 65, which prescribe the requirements for airmen to obtain a certificate and a rating.³ Each respective part contains the general requirements for eligibility, which include aeronautical knowledge, flight proficiency, and aeronautical experience, as applicable, for each certificate and/or rating sought. This generally includes the requirement to pass a practical test ⁴ specific to the certificate or rating sought.⁵

² By statute, a person may not serve in any capacity as an airman with respect to a civil aircraft, aircraft engine, propeller, or appliance used, or intended for use, in air commerce without an airman certificate authorizing the airman to serve in the capacity for which the certificate was issued. 49 U.S.C. 44711. The duties of airman are identified in the definition of airman in 49 U.S.C. 40102.

³ Part 61 prescribes certification requirements for pilots, flight instructors, and ground instructors; part 63 prescribes certification requirements for flight crewmembers other than pilots; part 65 prescribes certification requirements for airmen other than flight crewmembers.

⁴ A practical test is “a test on the areas of operations for an airman certificate, rating, or authorization that is conducted by having the applicant respond to questions and demonstrate maneuvers in flight, in a flight simulator, or in a flight training device.” 14 CFR 61.1. Practical tests are administered by FAA inspectors or private persons designated by the Administrator. See 49 U.S.C. 44702(d).

⁵ Certain certificates do not require the successful completion of a practical test to obtain the certificate. For example, a certificate on the basis of military competency requires only a military competency aeronautical knowledge test, pursuant to § 61.73(b); a ground instructor certificate requires only a knowledge test on fundamentals of instructing and certain aeronautical knowledge areas, pursuant to § 61.213.

Prior to 1997, the FAA set forth certain items to be included on the practical test ⁶ directly in the regulations of part 61 through flight proficiency requirements. Specifically, § 61.43 set forth broad areas required to be included in practical tests,⁷ and the individual subparts applicable to the certificate sought required the practical test to include procedures and maneuvers selected by an FAA inspector or evaluator from the flight proficiency provisions of that subpart. This resulted in an unclear, broad, and discretionary testing framework. In 1995,⁸ the FAA proposed to replace the flight proficiency requirements for flight training and practical tests with approved areas of operation, more general in character than the flight proficiency procedures and maneuvers, and simplify the practical test general procedures regulations to require performance of the areas of operation. The FAA also proposed to remove appendix A and appendix B from part 61, which contained the practical test requirements for airplane ATP certificates and associated class and type ratings and rotorcraft ATP certificates and associated class and type ratings, respectively. The FAA stated that the specific tasks for training and practical tests within the new areas of operation would then be established through the appropriate practical test standard, with the purpose of permitting greater flexibility in updating the training and testing maneuvers and procedures required of pilot and flight instructor applicants. Commenters generally opposed this change, stating that the FAA would be able to revise the requirements for certificates and ratings through the practical test standards without issuing an NPRM and soliciting public comments. Commenters also questioned the compliance of the proposal with the APA.⁹ Nevertheless, the FAA adopted the proposal and assured the public that the FAA would actively seek public comments on future revisions of the PTSs.¹⁰

⁶ Prior to 1997, the FAA referred to “practical tests” as both “practical test” and “flight test.”

⁷ For example, these broad areas included: executing procedures and maneuvers within the aircraft's performance capability and limitations, exercising judgment, applying aeronautical knowledge. Before 1997, these broad areas only applied to private and commercial certificates; the practical test flight proficiency areas for ATP certificates and/or additional type ratings were set forth in then-appendices A and B of part 61.

⁸ NPRM, Pilot, Flight Instructor, Ground Instructor, and Pilot School Certification Rules, 60 FR 41160 (Aug. 11, 1995).

⁹ The APA includes requirements for publishing notices and providing opportunities for public comment on proposed and final rules in the Federal Register. See 5 U.S.C. 553(b).

¹⁰ Final Rule, Pilot, Flight Instructor, Ground Instructor, and Pilot School Certification Rules, 62 FR 16220 (Apr. 4, 1997).

In the implementation of the areas of operation, the FAA established the Practical Test Standards (PTS) to define acceptable performance of the flight proficiency required to obtain a certificate and/or rating. The PTSs were specific to certain certificates and/or ratings sought and incorporated the areas of operation set forth in the applicable regulations.¹¹ Within the PTS, the areas of operation were designated as phases of the practical test, which were further extrapolated into tasks comprised of knowledge areas, flight procedures, or maneuvers appropriate to the overarching area of operation. An evaluator ¹² is responsible for determining whether the applicant meets the standards outlined in the objective of each required task evaluated in accordance with the respective PTS. While developed primarily in response to part 61 revisions, PTSs were also published and utilized for testing under parts 63 and 65.¹³

¹¹ As an example, a PTS was authored for the Commercial Pilot—Rotorcraft Category, Helicopter and Gyroplane Class. Within the PTS, the areas of operation correspond with the areas of operation set forth in 14 CFR 61.127(b)(3) and (4), flight proficiency areas of operation for rotorcraft category rating with a helicopter class rating and rotorcraft category rating with a gyroplane class rating, respectively.

¹² As it applies to the particular evaluation, an evaluator is considered: an aviation safety inspector; pilot examiner (other than administrative pilot examiners); training center evaluator (TCE); chief instructor, assistant chief instructor, or check instructor of a pilot school holding examining authority; an instrument flight instructor conducting an instrument proficiency check; or an authorized sport pilot instructor.

¹³ Specifically, PTSs were developed for Flight Engineers in part 63 and Aircraft Dispatchers, Mechanic Technicians, and Parachute Riggers in part 65. Because these regulations do not specifically set out the areas of operation in the same manner as part 61, these PTSs are further described in their respective sections of this preamble.

In collaboration with the aviation industry and the FAA's routine review processes, the FAA identified the need for a new, systematic approach to testing that would (1) provide clearer standards, (2) consolidate redundant tasks, and (3) connect the standards for knowledge, risk management, and skills to the knowledge and practical tests. Therefore, the FAA began to establish the ACSs in 2011 to enhance the testing standard for the knowledge and practical tests. The goal in creating the ACS was to drive a systematic approach to the airman certification process, including knowledge test question development and the conduct of the practical test. In cooperation with the ACS Working Group, established through the Aviation Rulemaking Advisory Committee (ARAC),¹⁴ the FAA integrated “aeronautical knowledge” and “risk management” elements into the existing areas of operations and tasks set forth in the PTS. Therefore, the ACS is a comprehensive presentation integrating the standards for what an applicant must know, consider, and do to demonstrate proficiency to pass the tests required for issuance of the applicable airman certificate or rating. The FAA notes that some PTSs have fully transitioned to ACSs, rendering those corresponding PTSs obsolete. While FAA continues to actively convert the remaining PTSs to ACSs in collaboration with the ACS Working Group, FAA will continue to use the PTS for some certificates and ratings until the corresponding ACS is completed.

¹⁴ The ARAC is a body established under the Federal Advisory Committee Act. 5 U.S.C. app. 2. The ARAC ACS Working Group is comprised of the FAA, advocacy groups, instructor groups, training providers, academic institutions, and labor organizations.

In 2018,¹⁵ the FAA removed the reference to the practical test standards in § 61.43 and broadened the regulatory language to encompass the standards set forth in the airman certification standards, where applicable (i.e., where ACSs were developed and actively utilized for practical tests of certain certificates). The regulatory language adopted in 2018 that requires applicants to perform the tasks specified in the areas of operation for the airman certificate or rating sought is how the regulation is situated today.

¹⁵ Final Rule, Regulatory Relief: Aviation Training Devices; Pilot Certification, Training, and Pilot Schools; and Other Provisions, 83 FR 30232 (June 27, 2018).

While FAA did not consider the content of the PTSs and ACSs regulatory requirements, as stated in the 2018 final rule,¹⁶ the PTS and the ACS are purposed to impose requirements on all persons seeking an airman certificate or rating in parts 61, 63, and 65. As previously discussed, the PTS and ACS require an applicant seeking a certificate or rating to complete specific tasks and maneuvers to a minimum prescribed standard to obtain the applicable certificate or rating.¹⁷ As such, if an applicant does not perform a task to the standard in the applicable ACS or PTS, the applicant cannot obtain the applicable certificate and rating. Unsatisfactory performance results in a notice of disapproval and/or denial of the certificate or rating.

¹⁶ 83 FR at 30269.

¹⁷ Examiners are directed to conduct practical tests in accordance with the appropriate ACS or PTS pursuant to FAA Order 8900.1, Vol. 5, Chap. 1, Sec. 4. Additional direction is found in the appropriate FAA Order 8900.1 volume, chapter, and section pursuant to the applicable certificate or rating sought (e.g., Vol. 1, Chap. 2, Sec. 7, Conduct a Private Pilot Certification, Including Additional Category/Class Ratings, directs an examiner to conduct the practical test in accordance with the private pilot PTS in paragraph 5-382).

Because of the regulatory nature that the PTSs and ACSs are purposed for, through this proposed rulemaking, the FAA is proposing to IBR the ACSs and PTSs into parts 61, 63, and 65 so that the standards carry the full force and effect of regulation. Due to the unique nature of the PTS and ACS documents, which are lengthy and contain complex and technical tables, the FAA proposes to IBR these standards rather than reproduce the documents in their entirety into the Code of Federal Regulations (CFR), as is subsequently discussed.

IBR is a mechanism that allows Federal agencies to comply with the requirements of the APA to publish rules in the Federal Register and the CFR by referring to material published elsewhere.¹⁸ Material that is incorporated by reference has the same legal status as if it were published in full in the Federal Register.

¹⁸ 5 U.S.C. 552(a), which states, “except to the extent that a person has actual or timely notice of the terms thereof, a person may not in any manner be required to resort to, or be adversely affected by, a matter required to be published in the Federal Register and not so published. For the purpose of this paragraph, matter reasonably available to the class of persons affected thereby is deemed published in the Federal Register when incorporated by reference therein with the approval of the Director of the Federal Register.

In accordance with 5 U.S.C. 552(a) and 1 CFR part 51,¹⁹ the FAA makes the ACSs and PTSs reasonably available to interested parties by providing free online public access to view on the FAA Training and Testing website at www.faa.gov/training_testing. The ACSs and PTSs are available for download, free of charge, at the provided web address. The FAA will continue to provide the ACSs and PTSs to interested parties in this manner. In addition to the free online material on the FAA's website, hard copies and printable versions are available from the FAA. Additionally, all ACSs and PTSs proposed to be incorporated by reference are contained in the docket for this NPRM for inspection.

¹⁹ 5 U.S.C. 552(a) requires that matter incorporated by reference be “reasonably available” as a condition of its eligibility. Further, 1 CFR 51.5(a)(2) requires that agencies seeking to incorporate material by reference discuss in the preamble of the proposed rule the ways that the material it proposes to incorporate by reference is reasonably available to interested parties and how interested parties can obtain the material.

The FAA emphasizes that, in practice, practical tests and proficiency checks are already conducted in accordance with the applicable ACS or PTS, and there are no changes proposed to current testing processes or procedures. Additional information regarding each PTS and ACS (including summaries of each publication), revisions to the PTSs, transition of PTSs to ACSs, and ACSs introduced in this proposed rule may be found in section III.B.1 of this preamble.

B. Part 61: Pilots and Flight Instructors

1. Centralized Incorporation by Reference

The FAA proposes to IBR thirty (30) PTSs and ACSs into part 61. Rather than listing the standard, publishing information, and approval language in each affected section of part 61, the FAA proposes the creation of a centralized IBR section in new § 61.14 to streamline the regulatory text and avoid repetitive information in the regulations. The centralized IBR section would contain the IBR approval language and the standards' publishing information.²⁰ Section 61.14(a) would set forth the list of ACSs and PTSs to be incorporated by reference.

²⁰ 1 CFR 51.9 sets forth the language required to IBR a standard. While this language is only formally approved at the final rule stage, this proposed rule includes all required final rule language for transparency and consistency.

The centralized IBR section in new § 61.14 would not contain instructions for using the standards; rather, § 61.43, as subsequently discussed, would set forth the compliance requirements with the standards as they pertain to the practical test and §§ 61.57, 61.58, 61.321, and 61.419 would set forth the compliance requirements with the standards as they pertain to certain proficiency checks. The sections promulgating compliance would cross-reference to the centralized IBR section, § 61.14.

The standards contained in the centralized IBR section include 15 ACSs and 15 PTSs, as follows: ²¹

²¹ The FAA notes that dates will be added to the regulatory text to aid with version and document identification at the Final Rule stage, which will precisely reflect the effectivity date of the PTSs and ACSs.

• Airline Transport Pilot and Type Rating for Airplane Category Airman Certification Standards; FAA-S-ACS-11A.

○ This ACS communicates the aeronautical knowledge, risk management, and flight proficiency standards for airline transport pilot and type rating certification in the airplane category.

○ This ACS contains the following Areas of Operation: Preflight Preparation; Preflight Procedures; Takeoffs and Landings; In-flight Maneuvers; Stall Prevention; Instrument Procedures; Emergency Operations; and Postflight Procedures.

• Airline Transport Pilot and Type Rating Practical Test Standards for Rotorcraft Category Helicopter Rating; FAA-S-8081-20A.

○ This PTS establishes the aeronautical knowledge, special emphasis areas considered critical to flight safety, and proficiency standards for the airline transport pilot and type rating practical tests for helicopters.

○ This PTS contains the following Areas of Operation: Preflight Preparation; Preflight Procedures; Takeoff and Departure Phase; Inflight Maneuvers; Instrument Procedures; Landings and Approaches to Landings; Normal and Abnormal Procedures; Emergency Procedures; and Postflight Procedures.

• Airline Transport Pilot and Type Rating for Powered-Lift Category Airman Certification Standards; FAA-S-ACS-17.

○ This ACS communicates the aeronautical knowledge, risk management, and flight proficiency standards for airline transport pilot and type rating certification in the powered-lift category.

○ This ACS contains the following Areas of Operation: Preflight Preparation; Preflight Procedures; Takeoffs and Departure Phase; In-flight Maneuvers; Instrument Procedures; Landings and Approaches to Landings; Emergency Operations; and Postflight Procedures.

• Commercial Pilot for Airplane Category Airman Certification Standards; FAA-S-ACS-7B.

○ This ACS communicates the aeronautical knowledge, risk management, and flight proficiency standards for the commercial rating in the airplane category, single-engine land and sea; and multiengine land and sea classes.

○ This ACS contains the following Areas of Operation: Preflight Preparation; Preflight Procedures; Airport and Seaplane Base Operations; Takeoffs, Landings, and Go-Arounds; Performance Maneuvers and Ground Reference Maneuvers; Navigation; Slow Flight and Stalls; High-Altitude Operations; Emergency Operations; Multiengine Operations; and Postflight Procedures.

• Commercial Pilot for Rotorcraft Category Helicopter Rating Airman Certification Standards; FAA-S-ACS-16.

○ This ACS communicates the aeronautical knowledge, risk management, and flight proficiency standards for a commercial pilot certification in the rotorcraft category helicopter rating.

○ This ACS contains the following Areas of Operation: Preflight Preparation; Preflight Procedures; Airport and Heliport Operations; Hovering Maneuvers; Takeoffs, Landings, and Go-Arounds; Performance Maneuvers; Navigation; Emergency Operations; Special Operations; and Postflight Procedures.

• Commercial Pilot Practical Test Standards for Rotorcraft Category Gyroplane Rating; FAA-S-8081-16C.

○ This PTS establishes the aeronautical knowledge, special emphasis areas considered critical to flight safety, and proficiency standards for the commercial pilot practical test for the rotorcraft category gyroplane class.

○ This PTS contains the following Areas of Operation: Preflight Preparation; Preflight Procedures; Airport Operations; Takeoffs, Landings, and Go-Arounds; Performance Maneuvers, Navigation; Flight at Slow Airspeeds; Emergency Procedures; and Postflight Procedures.

• Commercial Pilot for Powered-Lift Category Airman Certification Standards; FAA-S-ACS-2.

○ This ACS communicates the aeronautical knowledge, risk management, and flight proficiency standards for commercial pilot certification in the powered-lift category.

○ This ACS contains the following Areas of Operation: Preflight Preparation; Preflight Procedures; Airport and Heliport Operations; Hovering Maneuvers; Takeoffs, Landings, and Go-Arounds; Performance Maneuvers; Navigation; Slow Flight and Stalls; Emergency Operations; High-Altitude Operations; Special Operations; and Postflight Procedures.

• Commercial Pilot Practical Test Standards for Glider Category; FAA-S-8081-23B.

○ This PTS establishes the aeronautical knowledge, special emphasis areas considered critical to flight safety, and proficiency standards for the commercial pilot certification practical test for the glider category.

○ This PTS contains the following Areas of Operation: Preflight Preparation; Preflight Procedures; Airport and Gliderport Operations; Launches and Landings; Performance Maneuvers; Soaring Techniques; Performance Maneuvers; Navigation; Slow Flight and Stalls; Emergency Operations; and Postflight Procedures.

• Commercial Pilot Practical Test Standards for Lighter-Than-Air Category; FAA-S-8081-18A.

○ This PTS establishes the aeronautical knowledge, special emphasis areas considered critical to flight safety, and proficiency standards for the commercial pilot certification practical tests for the lighter-than-air category, balloon and airship classes.

○ This PTS contains the following Areas of Operation: Fundamentals of Instructing; Technical Subjects; Preflight Preparation; Preflight Lesson on a Maneuver to be Performed in Flight; Preflight Procedures; Airport Operations; Launches and Landings; Performance Maneuvers; Navigation; Emergency Operations; and Postflight Procedures.

• Private Pilot for Airplane Category Airman Certification Standards; FAA-S-ACS-6C.

○ This ACS communicates the aeronautical knowledge, risk management, and flight proficiency standards for the private pilot certification in airplane category, single-engine land and sea; and multiengine land and sea classes.

○ This ACS contains the following Areas of Operation: Preflight Preparation; Preflight Procedures; Airport and Seaplane Base Operations; Takeoffs, Landings, and Go-Arounds; Performance Maneuvers and Ground Reference Maneuvers; Navigation; Slow Flight and Stalls; Basic Instrument Maneuvers; Emergency Operations; Multiengine Operations; Night Operations; and Postflight Procedures.

• Private Pilot for Rotorcraft Category Helicopter Rating Airman Certification Standards; FAA-S-ACS-15.

○ This ACS communicates the aeronautical knowledge, risk management, and flight proficiency standards for private pilot certification in the Rotorcraft category helicopter rating.

○ This ACS contains the following Areas of Operation: Preflight Preparation; Preflight Procedures; Airport and Heliport Operations; Hovering Maneuvers; Takeoffs, Landings, and Go-Arounds; Performance Maneuvers; Navigation; Emergency Operations; Night Operations; and Postflight Procedures.

• Private Pilot Practical Test Standards for Rotorcraft Category Gyroplane Rating; FAA-S-8081-15B.

○ This PTS establishes the aeronautical knowledge, special emphasis areas considered critical to flight safety, and proficiency standards for the private pilot practical test for the rotorcraft category, gyroplane class.

○ This PTS contains the following Areas of Operation: Preflight Preparation; Preflight Procedures; Airport Operations; Takeoffs, Landings, and Go-Arounds; Performance Maneuver, Ground Reference Maneuvers; Navigation; Flight at Slow Airspeeds; Emergency Operations; and Postflight Procedures.

• Private Pilot for Powered-Lift Category Airman Certification Standards; FAA-S-ACS-13.

○ This ACS communicates the aeronautical knowledge, risk management, and flight proficiency standards for private pilot certification in the powered-lift category.

○ This ACS contains the following Areas of Operation: Preflight Preparation; Preflight Procedures; Airport and Heliport Operations; Hovering Maneuvers; Takeoffs, Landings, and Go-Arounds; Performance Maneuvers; Ground Reference Maneuvers; Navigation; Slow Flight and Stalls; Basic Instrument Maneuvers; Emergency Operations; Night Operations; and Postflight Procedures.

• Private Pilot Practical Test Standards for Glider Category; FAA-S-8081-22A.

○ This PTS establishes the aeronautical knowledge, special emphasis areas considered critical to flight safety, and proficiency standards for the private pilot certification practical test for the glider category.

○ This PTS contains the following Areas of Operation: Preflight Preparation; Preflight Procedures; Airport and Gliderport Operations; Launches and Landings; Performance Airspeeds; Soaring Techniques; Performance Maneuvers; Navigation; Slow Flight and Stalls; Emergency Operations; and Postflight Procedures.

• Private Pilot Practical Test Standards for Lighter-Than-Air Category; FAA-S-8081-17A.

○ This PTS establishes the aeronautical knowledge, special emphasis areas considered critical to flight safety, and proficiency standards for the private pilot certification practical tests for the lighter-than-air category, balloon and airship classes.

○ This PTS contains the following Areas of Operation: Preflight Preparation; Preflight Procedures; Airport Operations; Launches and Landings; Performance Maneuvers; Navigation; Emergency Operations; and Postflight Procedures.

• Private Pilot Practical Test Standards for Powered Parachute Category and Weight-Shift-Control Category; FAA-S-8081-32A.

○ This PTS establishes the aeronautical knowledge, special emphasis areas considered critical to flight safety, and proficiency standards for the private pilot practical tests for powered parachute and weight shift control.

○ This PTS contains the following Areas of Operation: Preflight Preparation; Preflight Procedures; Airport and Seaplane Base Operations; Takeoffs, Landings, and Go-Arounds; Performance Maneuver; Ground Reference Maneuvers; Navigation; Emergency Operations; Night Operations; and Postflight Procedures.

• Recreational Pilot Practical Test Standards for Airplane Category and Rotorcraft Category; FAA-S-8081-3B.

○ This PTS establishes the aeronautical knowledge, special emphasis areas considered critical to flight safety, and proficiency standards for the recreational pilot practical tests for airplane, rotorcraft/helicopter, and rotorcraft/gyroplane.

○ This PTS contains the following Areas of Operation: Preflight Preparation; Preflight Procedures; Airport and Seaplane Base Operations; Takeoffs, Landing, and Go-Arounds; Performance Maneuvers; Ground Reference Maneuvers; Navigation; Slow Flight and Stalls; Emergency Operations; and Postflight Procedures.

• Sport Pilot and Sport Pilot Flight Instructor Practical Test Standards for Airplane Category, Rotorcraft Category, and Glider Category; FAA-S-8081-29A.

○ This PTS establishes the aeronautical knowledge, special emphasis areas considered critical to flight safety, and proficiency standards for the sport pilot practical tests and proficiency checks for the airplane, gyroplane, glider, and flight instructor.

○ This PTS contains the following Areas of Operation: Preflight Preparation; Preflight Procedures; Airport and Seaplane Base Operations; Takeoffs, Landings, and Go-Arounds; Performance Maneuver; Ground Reference Maneuvers; Navigation; Slow Flight and Stalls; Emergency Operations; and Postflight Procedures.

• Sport Pilot and Sport Pilot Flight Instructor Practical Test Standards for Lighter-Than-Air Category; FAA-S-8081-30A.

○ This PTS establishes the aeronautical knowledge, special emphasis areas considered critical to flight safety, and proficiency standards for the sport pilot practical tests and proficiency checks for the airship, balloon, flight instructor.

○ This PTS contains the following Areas of Operation: Preflight Preparation; Preflight Procedures; Airport Operations; Takeoffs, Landings, and Go-Arounds; Performance Maneuver; Ground Reference Maneuvers; Navigation; Emergency Operations; and Postflight Procedures.

• Sport Pilot and Sport Pilot Flight Instructor Practical Test Standards for Powered Parachute Category and Weight-Shift Control Category; FAA-S-8081-31A.

○ This PTS establishes the aeronautical knowledge, special emphasis areas considered critical to flight safety, and proficiency standards for the sport pilot practical tests and proficiency checks for the weight-shift control, powered parachute, and flight instructor.

○ This PTS contains the following Areas of Operation: Preflight Preparation; Preflight Procedures; Airport and Seaplane Base Operations; Takeoffs, Landings, and Go-Arounds; Performance Maneuver; Ground Reference Maneuvers; Navigation; Slow Flight and Stalls; Emergency Operations; and Postflight Procedures.

• Instrument Rating—Airplane Airman Certification Standards; FAA-S-ACS-8C.

○ This ACS communicates the aeronautical knowledge, risk management, and flight proficiency standards for private pilot certification in the instrument rating in the airplane category.

○ This ACS contains the following Areas of Operation: Preflight Preparation; Preflight Procedures; Air Traffic Control Clearances and Procedures; Flight by Reference to Instruments; Navigation Systems; Instrument Approach Procedures; Emergency Operations; and Postflight Procedures.

• Instrument Rating—Helicopter Airman Certification Standards; FAA-S-ACS-14.

○ This ACS communicates the aeronautical knowledge, risk management, and flight proficiency standards for the instrument rating helicopter.

○ This ACS contains the following Areas of Operation: Preflight Preparation; Preflight Procedures; Air Traffic Control Clearances and Procedures; Flight by Reference to Instruments; Navigation Systems; Instrument Approach Procedures; Emergency Operations; and Postflight Procedures.

• Instrument Rating—Powered-Lift Airman Certification Standards; FAA-S-ACS-3.

○ This ACS communicates the aeronautical knowledge, risk management, and flight proficiency standards for private pilot certification in the instrument rating in the powered-lift category.

○ This ACS contains the following Areas of Operation: Preflight Preparation; Preflight Procedures; Air Traffic Control Clearances and Procedures; Flight by Reference to Instruments; Navigation Systems; Instrument Approach Procedures; Emergency Operations; and Postflight Procedures.

• Flight Instructor for Airplane Category Airman Certification Standards; FAA-S-ACS-25.

○ This ACS communicates the aeronautical knowledge, risk management, and flight proficiency standards for the flight instructor certificate in the airplane category.

○ This ACS contains the following Areas of Operation: Fundamentals of Instructing; Technical Subject Areas; Preflight Preparation; Preflight Lesson on a Maneuver to be Performed in Flight; Preflight Procedures; Airport and Seaplane Base Operations; Takeoffs, Landings, and Go-Arounds; Fundamentals of Flight; Performance and Ground Maneuvers, Slow Flight, Stalls, and Spins; Basic Instrument Maneuvers; Emergency Operations; Multiengine Operations; and Postflight Procedures.

• Flight Instructor for Rotorcraft Category Helicopter Rating Airman Certification Standards; FAA-S-ACS-29.

○ This ACS communicates the aeronautical knowledge, risk management, and flight proficiency standards for the flight instructor certificate in the rotorcraft category helicopter rating.

○ This ACS contains the following Areas of Operation: Fundamentals of Instructing; Technical Subject Areas; Preflight Preparation; Preflight Lesson on a Maneuver to be Performed in Flight; Preflight Procedures; Airport and Helicopter Operations; Hovering Maneuvers; Takeoffs, Landings, and Go-Arounds; Fundamentals of Flight; Performance Maneuvers, Emergency Operations; Special Operations; and Postflight Procedures.

• Flight Instructor Practical Test Standards for Rotorcraft Category Gyroplane Rating; FAA-S-8081-7C.

○ This PTS establishes the aeronautical knowledge, special emphasis areas considered critical to flight safety, and proficiency standards for the flight instructor certification practical tests for the rotorcraft category, gyroplane class.

○ This PTS contains the following Areas of Operation: Fundamentals of Instructing; Technical Subjects; Preflight Preparation; Preflight Lesson on a Maneuver to be Performed in Flight; Preflight Procedures; Airport Operations; Takeoffs, Landings, and Go-Arounds; Fundamentals of Flight; Performance Maneuvers; Flight at Slow Airspeeds; Ground Reference Maneuvers; Emergency Operations; and Postflight Procedures.

• Flight Instructor for Powered-Lift Category Airman Certification Standards; FAA-S-ACS-27.

○ This ACS communicates the aeronautical knowledge, risk management, and flight proficiency standards for the flight instructor certificate in the powered-lift category.

○ This ACS contains the following Areas of Operation: Fundamentals of Instructing; Technical Subject Areas; Preflight Preparation; Preflight Lesson on a Maneuver to be Performed in Flight; Preflight Procedures; Airport and Heliport Operations; Hovering Maneuvers; Takeoffs, Landings, and Go-Arounds; Fundamentals of Flight; Performance Maneuvers; Ground Reference Maneuvers; Slow Flight and Stalls; Basic Instrument Maneuvers; Emergency Operations; Special Operations; and Postflight Procedures.

• Flight Instructor Practical Test Standards for Glider Category; FAA-S-8081-8C.

○ This PTS establishes the aeronautical knowledge, special emphasis areas considered critical to flight safety, and proficiency standards for the flight instructor certification practical tests for the glider category.

○ This PTS contains the following Areas of Operation: Fundamentals of Instructing; Technical Subject Areas; Preflight Preparation; Preflight Lesson on a Maneuver to be Performed in Flight; Preflight Procedures; Airport and Gliderport Operations; Launches and Landings; Fundamentals of Flight; Performance Airspeeds; Soaring Techniques; Performance Maneuvers; Slow Flight, Stalls, and Spins; Emergency Operations; and Postflight Procedures.

• Flight Instructor Instrument Practical Test Standards for Airplane Rating and Helicopter Rating; FAA-S-8081-9E.

○ This PTS establishes the aeronautical knowledge, special emphasis areas considered critical to flight safety, and proficiency standards for the flight instructor certification practical tests for airplane and helicopter ratings.

○ This PTS contains the following Areas of Operation: Fundamentals of Instructing; Technical Subject Areas; Preflight Preparation; Preflight Lesson on a Maneuver to be Performed in Flight; Air Traffic Control Clearances and Procedures; Flight by Reference to Instruments; Navigation Aids; Instrument Approach Procedures; Emergency Operations; and Postflight Procedures.

• Flight Instructor Instrument Powered-Lift Airman Certification Standards; FAA-S-ACS-28.

○ This ACS communicates the aeronautical knowledge, risk management, and flight proficiency standards for the flight instructor instrument rating in the powered-lift category.

○ This ACS contains the following Areas of Operation: Fundamentals of Instructing; Technical Subject Areas; Preflight Preparation; Preflight Lesson on a Maneuver to be Performed in Flight; Air Traffic Control Clearances and Procedures; Flight by Reference to Instruments; Navigation Aids; Instrument Approach procedures; Emergency Operations; and Postflight Procedure.

The FAA notes that the ACSs and PTSs that the agency proposes to IBR may be categorized into three groups, described herein. First, for the majority of the ACSs and PTSs, the FAA has updated version numbers from the versions that are currently in use by the regulated community (e.g., applicants and examiners). The ACSs and PTSs with updated version numbers reflect minor updates, including grammatical or clerical corrections, updated regulatory citations, and organizational revisions.²² However, there are no major substantive revisions or additional requirements in the updated ACSs and PTSs incorporated by reference that the regulated community must resort to with this proposed rulemaking. Additionally, the FAA has updated the titles to certain ACSs and PTSs to more consistently reflect the precise category and/or rating that the ACS and PTS applies to. The FAA has also drafted an ACS companion guide providing guidance on certain nonregulatory and technical information removed from the ACSs during the update, which may be found in the docket to this rulemaking.

²² The FAA notes that each PTS and ACS contains front matter that provides revision history and a record of changes, which are available for inspection in the docket for this proposed rule.

Second, as discussed in section III.A., the FAA is actively converting the PTSs to ACSs across all airman certificates and ratings. Therefore, several ACSs proposed to be incorporated by reference as part of this rulemaking are currently not used as the FAA testing standard. The FAA is proposing that these ACSs would replace the existing PTSs as part of the final rule.

In the interest of transparency, the FAA does note four ACSs that added tasks during the transition from PTS to ACS. Specifically, the four ACSs affected are: (1) the Commercial Pilot for Airplane Category ACS, which adds the Forward Slip to the Landing task in accordance with the Private Pilot for Airplane Category ACS, Area of Operation IV, Task M for applicants who do not hold an airman certificate with an airman certificate with an airplane category rating and a single-engine class rating and are applying for a commercial certificate in the airplane category with a single engine rating (land or sea); (2) the Private Pilot for Rotorcraft Category Helicopter Rating ACS, which adds the Approach and Landing with One Engine Inoperative task, Area of Operation VII, Task C; (3) the Commercial Pilot for Rotorcraft Category Helicopter Rating ACS, which adds three tasks: first, the Anti-Torque System Failure (Oral Only) task, Area of Operation VIII, Task G; second, the Recovery from Unusual Flight Attitudes task, Area of Operation VIII, Task L; and, third, Night Operations task, Area of Operation IX, Task C; and (4) Flight Instructor for Rotorcraft Category Helicopter Rating ACS, which adds the Recovery from Unusual Flight Attitudes task, Area of Operation XI, Task D. The FAA has evaluated these tasks in terms of substantive additions to the practical test, and has determined these additions are of minimal impact. In other words, these added tasks, which have been determined as crucial to evaluation in the interest of safety, may be completed concurrently with tasks already required on the transitioned ACSs and, therefore, only add a negligible amount of time to the requisite practical test.

Notwithstanding these minimal additions, the conversion of PTS to ACS does not markedly change the substantive material to be tested on the practical test. The ACS is intended to more concisely capture the testing elements contained in the PTS, and the coding structure of the ACS provides greater detailed information for instructors and evaluators, particularly in areas missed on a knowledge test or not satisfactorily completed on a practical test. In sum, while the specific elements of the ACS and PTS may not precisely align (e.g., broad topics of managing risk and situational awareness in the PTS have been put in context of risk management elements on the ACS), the performance of tasks required, as well as the standard for satisfactory completion, remains generally unchanged, unless otherwise noted in the ACS.

Third, the FAA notes that there are six (6) new powered-lift ACSs proposed to be incorporated by reference, including: (1) ATP and Type Rating for Powered-Lift Category, (2) Commercial Pilot for Powered-Lift Category, (3) Private Pilot for Powered-Lift Category, (4) Instrument Rating—Powered-Lift, (5) Flight Instructor for Powered-Lift Category, and (6) Flight Instructor Instrument Powered-Lift. As with the other ACSs, most of the Powered-Lift ACSs were drafted based on input from industry and the ACS Working Group,²³ and align with the areas of operation promulgated by the regulations for the respective certificates and/or ratings.²⁴ Because these ACSs are newly drafted, the FAA invites comments in particular on the six powered-lift ACSs.

²³ The FAA notes the Private Powered-Lift ACS and Flight Instructor Instrument Powered-Lift ACS were drafted prior to the receipt of an ACS from the ACS Working Group. The FAA emphasizes that these two ACSs were largely informed by Powered-Lift ACSs that the ACS Working Group had submitted.

²⁴ For example, the private pilot powered-lift ACS areas of operation align with the flight proficiency areas of operation for a private pilot powered-lift category rating in 14 CFR 61.107(b)(5).

2. Pilot and Flight Instructor Practical Tests

Section 61.43 contains the general procedures for the practical test, including the parameters for the successful completion of a practical test.²⁵ As discussed in section III.A., completion of the practical test for a certificate or rating consists of performing the tasks specified in the areas of operation for the airman certificate or rating sought,²⁶ among other requirements. The FAA proposes to revise the language in § 61.43(a)(1) to direct compliance with the applicable PTS or ACS.²⁷ Specifically, completion of the practical test for a certificate or rating would consist of performing the tasks specified in the areas of operation contained in the applicable ACS or PTS for the airman certificate or rating sought. Additionally, the FAA proposes to revise § 61.43(a)(2) and (3) to clarify that the tasks and standards referred to in each respective subparagraph are those delineated in § 61.43(a)(1).

²⁵ 14 CFR 61.43(a).

²⁶ 14 CFR 61.43(a)(1).

²⁷ Section 14 CFR 141.67(c) requires tests given by pilot schools with examining authority to be approved by the Administrator and be at least equal in scope, depth, and difficulty to the comparable knowledge and practical tests prescribed by the Administrator under 14 CFR part 61. The FAA is not proposing a corresponding change to part 141 in light of the changes to § 61.43(a). However, the FAA notes that the reference in § 141.67(c) to part 61 means that for a test to be at least equal in scope, depth, and difficulty to the FAA practical test, the test must have requirements and standards that are at least equivalent to those in the applicable ACS or PTS (as already occurs in practice).

Additionally, in order to clearly define which ACS or PTS an applicant is subject to, the FAA proposes to add an appendix (Appendix A) to part 61. The appendix will function to aid applicants and evaluators in identifying which ACS or PTS must be utilized for the certificate and/or rating the applicant seeks. Therefore, proposed appendix A to part 61 provides a table containing an list of all part 61 certificates, ratings, and proficiency checks, and directs which PTS or ACS is applicable. The proposed revision to § 61.43(a)(1) contains both a reference to the centralized IBR section in § 61.14 and a reference to appendix A for PTS/ACS applicability.

3. Proficiency Checks

Proficiency checks are a type of review of a pilot's proficiency that is generally required to maintain existing privileges, but also required to add privileges in the case of sport pilot certificates. Although a proficiency check differs from an initial test for certification (i.e., a practical test), which determines a pilot's qualification to hold a certificate or rating, pilots completing proficiency checks are similarly evaluated against ACSs and PTSs; therefore, the FAA finds that conforming amendments are necessary to proficiency checks as well. Specifically, the FAA proposes to require that instrument proficiency checks (IPC) under § 61.57(d), pilot-in-command proficiency checks (PIC PC) under § 61.58, and sport pilot proficiency checks under §§ 61.321 and 61.419 be conducted according to the appropriate ACS or PTS, respectively, through minor revisions to the applicable section and cross-references to the centralized IBR section.

i. Instrument Proficiency Check

Section 61.57 sets forth the requirements of recent flight experience to act as pilot in command of an aircraft. To act as PIC under Instrument Flight Rules (IFR) or weather conditions less than the minimums prescribed for Visual Flight Rules (VFR), a PIC must complete certain instrument experience within a specified time.²⁸ A person who has failed to meet these instrument experience requirements for more than six calendar months ²⁹ may only reestablish currency by completing an IPC, pursuant to § 61.57(d).³⁰ Prior to 1997, an IPC ³¹ was broadly referred to in the regulations and did not require any specific checking areas, tasks, or operational characteristics. In 1997, the FAA clarified the tasks and maneuvers upon which IPC were to be conducted. Specifically, the FAA revised § 61.57(d) to require that the IPC include a representative number of the tasks required by the instrument rating practical test. The reference to “tasks required by the instrument rating practical test” was understood to embody the tasks that were referred to in § 61.43(a)(1), which referred to those tasks contained in the practical test standards.³²

²⁸ 14 CFR 61.57(c).

²⁹ A person who has failed to meet the experience requirements for fewer than six months may not act as PIC under IFR or the weather conditions less than the minimums prescribed for VFR but may reestablish instrument privileges by performing the required instrument experience in § 61.57(c) in an aircraft in actual instrument conditions with someone qualified to act as PIC, in simulated instrument conditions with a safety pilot, or in a full flight simulator, flight training device, or aviation training device as permitted in § 61.57(c)(2).

³⁰ There are certain exceptions to the general requirements of establishing instrument proficiency, which are provided in 14 CFR 61.57(e).

³¹ Instrument proficiency checks were termed as “instrument competency checks” prior to the 1997 final rule. See 62 FR at 16253.

³² 62 FR at 16253.

As discussed in section III.A. of this preamble, in 2018, the FAA removed references to the practical test standards in the regulations.³³ Likewise, the FAA found that, for consistency, it was inappropriate to reference the areas of operation and instrument tasks in the instrument rating PTS. Therefore, in the 2018 rulemaking, the FAA revised § 61.57(d) to list the areas of operation for an IPC ³⁴ and noted that the proficiency check would still be driven by the standards for the initial issuance of an instrument rating.³⁵

³³ 83 FR at 30269.

³⁴ The areas of operation listed in the regulation for an IPC were consistent with six of the eight areas of operation for an initial instrument rating in § 61.65(c). 83 FR 30232.

³⁵ Id.

In practice, the person administering an IPC ³⁶ utilizes the appropriate instrument PTS or ACS.³⁷ Currently, there is both an active PTS and ACS for instrument rating practical tests. Airplane Instrument Rating practical tests are conducted via the Instrument Rating—Airplane ACS (FAA-S-ACS-8B), while Helicopter Instrument Rating and Powered-Lift Instrument Rating practical tests are conducted via the Instrument Rating Practical Test Standards for Airplane, Helicopter, and Powered-Lift (FAA-S-8081-4E with Changes 1, 2, 3, 4 & 5). The FAA notes that the current PTS still contains the Airplane portion; however, this portion has been superseded by the ACS. While previously stated that the IPC in practice currently utilizes the PTS or ACS dependent on the rating held, as part of this rulemaking, the FAA proposes to transition to an Instrument Rating—Helicopter ACS and Instrument Rating—Powered-Lift ACS; therefore, all IPCs would use an ACS. The instrument ACSs contain a table that sets forth the minimum number of tasks that must be selected during a check to ensure the instrument proficiency of the pilot to operate under IFR or in weather conditions less than the minimums for VFR.³⁸

³⁶ See 14 CFR 61.57(d)(3).

³⁷ See FAA Order 8900.1, Vol. 5, Chap. 2, Sec. 3.

³⁸ For example, in the Instrument Rating—Airplane ACS, a proficiency check must consist of, at the minimum: Task B in Area of Operation III; Task B in Area of Operation IV; Task A in Area of Operation V; all Tasks in Area of Operation VI; Tasks B, C, and D in Area of Operation VII; and all tasks in Area of Operation VIII.

Therefore, the FAA proposes to revise § 61.57(d)(1) to precisely reflect the standards that an IPC must consist of by stating that the IPC must consist of the areas of operation contained in the applicable ACS as appropriate to the rating held. The authorized instructor will utilize the aforementioned tables within the appropriate ACS to check the pilot, and the pilot will have notice and understanding of which tasks the pilot is expected to perform. The proposed revision to § 61.57(d)(1) contains both a cross-reference to the centralized IBR section in § 61.14 and a cross-reference to appendix A for ACS applicability. The FAA emphasizes that there are no major substantive changes to the proficiency check process or tasks required to be conducted during an IPC as a result of this proposal.

ii. Pilot-in-Command Proficiency Check

Section 61.58 sets forth the requirements for a PIC PC for the operation of an aircraft that requires more than one pilot flight crewmember or is turbojet-powered. With certain exceptions,³⁹ to serve as PIC of these aircraft, a person must complete a PIC PC in the aircraft within the preceding 12 calendar months and also complete a PIC PC in the particular type of aircraft in which the person will serve as PIC within the preceding 24 calendar months.⁴⁰ One manner by which the PIC PC may be accomplished is through satisfactory completion of a PIC PC consisting of the aeronautical knowledge areas, areas of operations, and tasks required for a type rating in an aircraft that is type certificated for more than one pilot flight crewmember or is turbojet powered.⁴¹

³⁹ See 14 CFR 61.58(b), which excepts persons conducting operations under subpart K of part 91, part 121, 125, 133, 135, or 137, or persons maintaining continuing qualification under an Advanced Qualification program approved under subpart Y of part 121 from the requirements of § 61.58.

⁴⁰ 14 CFR 61.58.

⁴¹ 14 CFR 61.58(d)(1).

The FAA has required proficiency checks for PICs operating aircraft that require more than one pilot since 1973.⁴² At that time, the PIC PCs were required to include the maneuvers, procedures, and standards required for the original issuance of a type rating for the aircraft used in the check.⁴³ In 2011, the FAA revised § 61.58 to also require a PIC of a turbojet-powered aircraft to receive an annual pilot proficiency check and revised the proficiency check parameters to consist of the aeronautical knowledge areas, areas of operation, and tasks required for a type rating.⁴⁴ Today, in practice, a person authorized by the Administrator conducts the PIC PC under § 61.58(d)(1) by checking the pilot's performance of specified maneuvers and procedures in the applicable ACS or PTS, based on the pilot's certificates and ratings held (i.e., because the ACS or PTS is used to delineate the tasks required for a type rating on a practical test, the ACS or PTS is also used for the proficiency check).⁴⁵

⁴² Final Rule, Miscellaneous Amendments, 38 FR 3161 (Feb. 1, 1973). 14 CFR 61.58(d)(1) was originally promulgated in 1973 as § 61.58(c)(1).

⁴³ In 1997, the FAA revised § 61.58(c)(1) to become § 61.58(d)(1) and delineated that the proficiency check must consist of the maneuvers and procedures required for a type rating. 62 FR 16220.

⁴⁴ Final Rule, Pilot in Command Proficiency Check and Other Changes to Pilot and Pilot School Certification Rules, 76 FR 54095 (Aug. 31, 2011).

⁴⁵ See FAA Order 8900.1, Volume 5, Chapter 1, Section 20.

Because the FAA conducts the PIC PC in accordance with the ACS or PTS the FAA proposes a corresponding revision to § 61.58(d)(1). Rather than broadly refer to the proficiency check requirements as aeronautical knowledge areas, areas of operation, and tasks required for a type rating, the FAA proposes to require that the PIC PC specifically consist of the areas of operation contained in the applicable ACS or PTS. The FAA emphasizes that there are no substantive changes to the maneuvers and procedures on the PIC PC in this proposal. The proposed revision contains both a cross-reference to the centralized IBR section in § 61.14 and a cross-reference to appendix A to determine ACS or PTS applicability.

iii. Sport Pilot Proficiency Checks

The final group of proficiency checks in part 61 are those for certificated sport pilots seeking to operate an additional category or class of light-sport aircraft, and certificated flight instructors with a sport pilot rating seeking to provide training in an additional category or class of light-sport aircraft. A certificated sport pilot must, among other requirements,⁴⁶ successfully complete a proficiency check on the aeronautical knowledge areas and areas of operation specified in §§ 61.309 and 61.311 ⁴⁷ for the additional light-sport aircraft privilege sought. A certificated flight instructor must, among other requirements,⁴⁸ successfully complete a proficiency check on the areas of operation specified in § 61.409 for the additional category and class of flight instructor privilege sought. The FAA stated that these areas of operation were consistent with and based upon the existing flight proficiency requirements established for higher certificate levels under part 61 ⁴⁹ and drafted the Sport Pilot PTSs to align with these areas of operation. For the aforementioned certificated sport pilots and certificated flight instructors, in practice, the proficiency checks are conducted in accordance with the respective Sport Pilot PTS,⁵⁰ which incorporate the aeronautical knowledge areas and areas of operation provided in §§ 61.309, 61.311, and 61.409, applicable to the additional privileges sought.

⁴⁶ See 14 CFR 61.321.

⁴⁷ Section 61.309 contains the aeronautical knowledge areas, while § 61.311 contains the areas of operation.

⁴⁸ See 14 CFR 61.419.

⁴⁹ NPRM, Certification of Aircraft and Airmen for Operation of Light-Sport Aircraft, 67 FR 5367 (Feb. 5, 2002).

⁵⁰ Sport Pilot PTS for Airplane, Gyroplane, Glider, and Flight Instructor; Sport Pilot PTS for Airship, Balloon, and Flight Instructor; Sport Pilot PTS for Weight Shift Control, Powered Parachute, and Flight Instructor. See FAA Order 8900.1, Vol. 5, Chap. 2, Sec. 12.

Therefore, the FAA proposes to revise § 61.321(b) to precisely reflect the standards that the proficiency check aligns with by stating that the proficiency check must consist of the appropriate areas of operation contained in the applicable PTS for the additional light-sport aircraft privilege sought. Likewise, the FAA proposes to revise § 61.419(b) to require the flight instructor to successfully complete a proficiency check consisting of the appropriate areas of operation contained in the applicable PTS for the additional category and class flight instructor privilege sought. The proposed revisions to both §§ 61.321 and 61.419 contain a cross-reference to the centralized IBR section in § 61.14 and a cross-reference to appendix A to determine PTS ⁵¹ applicability. The FAA emphasizes that there are no substantive changes to the tasks required to be conducted in the proficiency check to add additional sport pilot privileges in this proposal.

⁵¹ The FAA notes that, currently, only PTSs exist for sport pilots; however, as discussed in section III.A. of this preamble, the FAA continues work to convert all PTSs to ACSs.

4. Conforming Amendment to ATP Flight Proficiency Areas of Operation

As part of the FAA's routine review of the testing standards, the FAA noticed that the areas of operation in the ATP and Type Rating for Airplane Category ACS ⁵² do not precisely align with the flight proficiency areas of operation set forth in § 61.157(e)(1) and (2).⁵³ Similarly, while reviewing the ATP and Type Rating for Powered-Lift Category ACS, the FAA noted similar discrepancies between the draft ACS and the requirements of § 61.157(e)(3). Specifically, § 61.157(e)(1), airplane category with single engine class rating, § 61.157(e)(2), airplane category with multiengine class rating, and § 61.157(e)(3), powered-lift category rating, each list Normal and abnormal procedures, which is not an independent area of operation in the ACS. Further, the ACS appears to combine the regulatory independent areas of operation Takeoff and departure phase and Landings and approaches to landings in a single area of operation, Takeoffs and landings, in § 61.157(e)(1) and (2). Additionally, the ACS contains Stall prevention as an area of operation, which is not delineated as an area of operation in § 61.157(e)(1) and (2). Finally, a terminology discrepancy exists in one area of operation where Emergency procedures is stated in the regulations but referred to as Emergency operations in the ACS.

⁵² FAA-S-ACS-11 (June 2019).

⁵³ The FAA notes that this deviation is only present in the ATP Airplane ACS for single engine and multiengine class ratings; the areas of operation in the ATP Helicopter PTS concisely correspond with the areas of operation set forth in § 61.157(e)(4). Therefore, no revisions are proposed to § 61.157(e)(4).

Therefore, the FAA proposes to revise the areas of operation in § 61.157(e)(1) and (2) to align with the areas of operation in the ACS, as subsequently explained, and similarly proposes two minor revisions to § 61.157(e)(3).

First, the FAA proposes to add Stall prevention as an area of operation in § 61.157(e)(1) and (2). The FAA notes that because practical tests are conducted in accordance with the ACS, the addition of Stall prevention in § 61.157(e)(1) and (2) does not add tasks that an applicant is expected to demonstrate, as Stall prevention was already an area of operation within the ACS ⁵⁴ and, therefore, is currently evaluated on the practical test. The FAA also proposes to revise § 61.57(e)(1) and (2) to combine Takeoff and departure phase with Landings and approaches to landings to become Takeoffs and landings, which encompasses the former two areas of operation.

⁵⁴ Stall Prevention was previously tested under area of operation IV, Inflight Maneuvers, before the ATP Airplane PTS transitioned to the ACS. The ACS moved stall tasks into an independent area of operation to place special emphasis on its importance in airman training and testing and the prevention of stall-related aviation accidents.

Additionally, the FAA proposes to remove Normal and abnormal procedures as an area of operation within the airplane category and powered-lift category areas of operation from § 61.157(e)(1), (2), and (3). Instead, the FAA proposes to add language to the introductory text of § 61.157(e) to specify that normal and abnormal procedures by characteristic are inherently integrated in the tasks and maneuvers in the ACSs for airplane category single engine class rating, airplane category multiengine class rating, and powered-lift category rating (i.e., § 61.157(e)(1), (2), and (3)). Because the two ACSs (i.e., ATP and Type Rating for Airplane Category ACS and ATP and Type Rating for Powered-Lift ACS) integrate the demonstration of normal and abnormal procedures within their fundamental task structures, there is no need for a separate area of operation addressing normal and abnormal procedures in isolation in the ACS. For example, in the ATP and Type Rating for Airplane Category ACS, Area of Operation II. Preflight Procedures, Task B. Powerplant Start requires an applicant to demonstrate understanding of normal and abnormal powerplant start procedures and limitations, including the use of an auxiliary power unit or external power source, if applicable.⁵⁵

Finally, as previously noted, the regulations (i.e., §§ 61.157(e)(1)(viii), (e)(2)(viii), and (e)(3)(viii)) utilize the phrase Emergency procedures, while the ATP and Type Rating for Airplane Category ACS and ATP and Type Rating for Powered-Lift Category ACS use the phrase Emergency operations. Therefore, for standardization purposes, FAA proposes a minor nomenclature change to §§ 61.157(e)(1)(viii), (e)(2)(viii), and (e)(3)(viii), which are proposed as §§ 61.157(e)(1)(vii), (e)(2)(vii), and (e)(3)(vii), to the area of operation Emergency operations.

The FAA again emphasizes that there are no substantive changes being made to the tasks and maneuvers that an applicant for an ATP certificate must demonstrate in these changes. These proposed revisions are simply editorial and organizational changes to align the regulations and ACSs for ease in functional application. As a result of the organizational changes, some areas of operation have been renumbered. Table 1 summarizes these changes as follows:

Table 1—Revisions to § 61.157(e)(1), (2), and (3)
Current areas of operation in § 61.157(e)(1), (2), and (3) | Proposed revision
(i) Preflight Preparation | No proposed revision.
(ii) Preflight Procedures | No proposed revision.
(iii) Takeoff and Departure Phase | Combine (iii) and (vi) in § 61.157(e)(1) and (2).
(iv) In-Flight Maneuvers | No proposed revision.
(v) Instrument Procedures | No proposed revision.
(vi) Landings and Approaches to Landings | Combine (iii) and (vi) in § 61.157(e)(1) and (2).
(vii) Normal and Abnormal Procedures | Remove in § 61.157(e)(1), (2), and (3).
(viii) Emergency Procedures | Rename in § 61.157(e)(1), (2), and (3).
(ix) Postflight Procedures | No proposed revision.
| Addition of Stall Prevention in § 61.157(e)(1) and (e)(2).

The FAA notes that part 141 sets forth certain areas of operation for ATP certification courses in appendix E.⁵⁶ Specifically, appendix E prescribes the minimum training curriculum for an ATP certification course for an airplane category single-engine rating, airplane category multiengine rating, rotorcraft category helicopter rating, and powered-lift category rating. Section 4.(c) requires that an approved course must include flight training on the areas of operation listed in that section. These areas of operation align with the areas of operation set forth by § 61.157(e) as currently situated.

⁵⁶ 14 CFR 141.55 requires that each training course for which approval is requested must meet the minimum curriculum requirements in accordance with the appropriate appendix of part 141.

While the FAA proposes revisions to the areas of operation listed in § 61.157(e)(1), (2), and (3), as previously described, the FAA is not proposing to revise the areas of operation set forth in part 141, appendix E, section 4.(c). Thus, the FAA acknowledges that these areas of operation for training courses in part 141 will not precisely align with the proposed areas of operation set forth by § 61.157(e)(1), (2), and (3). However, the areas of operation for testing, whether under part 61 or part 141 will be governed by areas of operation in the ATP ACS or PTS, which align to the areas of operation in proposed § 61.157(e).⁵⁷

⁵⁷ In other words, applicants from a pilot school or provisional pilot school will either take (1) the FAA practical test, which aligns to the ATP ACS or PTS via § 61.43(a), or (2) take an end-of-course test given by a pilot school who holds examining authority for the training course. Per § 141.67(c), this end-of-course test must have requirements and standards that are at least equivalent to those in the applicable ATP ACS or PTS because this end-of-course test must be equal in scope, depth and difficulty to the comparable practical test prescribed by the Administrator under part 61.

C. Part 63: Flight Engineers

Part 63 contains the certification requirements for flight crewmembers other than pilots, specifically, flight engineers and flight navigators. Both flight engineers and flight navigators are required to pass a practical test to obtain a certificate. Currently, the flight engineer practical test utilizes the Flight Engineer Practical Test Standards, whereas the flight navigator practical test is based on part 63, appendix A, which sets forth the prescribed subjects to be tested on the flight navigator practical test.⁵⁸ In light of the prescribed subjects contained in appendix A, there is no developed PTS or ACS for flight navigators at this time.⁵⁹ Therefore, the FAA proposes to only IBR one PTS (i.e., the Flight Engineer PTS) into part 63.

⁵⁸ 14 CFR 63.57(c).

⁵⁹ The FAA estimates there are only 30 active flight navigator certificates during 2021. https://www.faa.gov/data_research/aviation_data_statistics/civil_airmen_statistics.

The requirements to obtain a flight engineer certificate have remained largely unchanged since the establishment of the flight engineer certificate in 1947.⁶⁰ Since the inception of the certificate, the regulations have set forth the delineated subjects the practical test would cover with little revision of subject areas.⁶¹ Unlike parts 61 and 65, which were revised in tandem to make general references to the PTS in 1997,⁶² part 63 did not follow suit and retained the specific subject areas in the regulations. These subject areas are fashioned as areas of operation in the Flight Engineer PTS,⁶³ which are further expanded into tasks that list the required knowledge and skills appropriate to the area of operation. Each task lists an objective, which consist of the important elements that must be satisfactorily performed to demonstrate competency. Specifically, the objective includes what the applicant must be able to do, the conditions under which the task is to be performed, and the minimum acceptable standards of performance. The Flight Engineer PTS is to be used for the initial issuance of a Flight Engineer Certificate and for the addition of class ratings to that certificate.

⁶⁰ Final Rule, Part 35—Flight Engineer Certificates, 12 FR 40 (Jan. 3, 1947).

⁶¹ The regulations promulgating the subject areas as they exist today were adopted in 1962. Final Rule, Flight Engineer Certificates and Training Courses, 30 FR 14558 (Nov. 23, 1965).

⁶² 62 FR 16220.

⁶³ For example, § 63.39(b)(1) requires the applicant to show that the applicant can satisfactorily perform preflight inspection. Preflight Inspection is implemented in the Flight Engineer PTS as area of operation II: Preflight Procedures, divided into Task A: Preflight Inspection and Flight Deck Setup and Task B: Preflight Inspection—Exterior.

Because the flight engineer practical test is conducted in accordance with the Flight Engineer PTS, the FAA proposes to revise § 63.39 to IBR the Flight Engineer PTS. Section 63.39(a) would be revised to conform to current practice and specify that, in order to pass the practical test for a flight engineer certificate, an applicant must satisfactorily demonstrate the objectives in the areas of operation contained in the Flight Engineer PTS. Accordingly, § 63.39(c) would be added to IBR the Flight Engineer PTS. The FAA is also proposing minor editorial revisions in § 63.39(b) to remove gender references.

D. Part 65: Aircraft Dispatchers and Parachute Riggers

1. Centralized Incorporation by Reference

Part 65 contains the certification requirements for airmen other than flight crewmembers, including aircraft dispatchers and parachute riggers. Both aircraft dispatchers and parachute riggers are required to pass a practical test ⁶⁴ to obtain a certificate and/or rating. The FAA proposes to incorporate the applicable PTSs for aircraft dispatchers and parachute riggers by reference, as discussed in sections III.D.2. and III.D.3 of this preamble. Part 65 currently contains a centralized IBR section in § 65.23, which houses the Aviation Mechanic General, Airframe, and Powerplant Practical Test Standards and the Aviation Mechanic General, Airframe, and Powerplant Airman Certification Standards.⁶⁵ The FAA proposes to revise the centralized IBR section in part 65 to include the Aircraft Dispatcher Practical Test Standards and Parachute Rigger Practical Test Standards. Specifically, to organize the PTSs and ACSs in alphanumeric order by version number, the FAA proposes to redesignate current § 65.23(a)(1) and (2) as § 65.23(a)(3) and (4). The Aircraft Dispatcher PTS, which is summarized in section III.D.2. of this preamble, would be contained in revised § 65.23(a)(1); the Parachute Rigger PTS, which is summarized in section III.D.3. of this preamble, would be contained in revised § 65.23(a)(2). . The centralized IBR section does not contain instructions for compliance with the standards. Rather, part 65 sections, as subsequently discussed, require compliance with these respective standards (i.e., §§ 65.59, 65.115, 65.119, and 65.123) and refer to § 65.23 for identification information and the IBR language required by 1 CFR part 51.

⁶⁴ 14 CFR 65.53(b)(4), 65.115, 65.119, and 65.123.

⁶⁵ Interim Final Rule, Aviation Maintenance Technician Schools, 87 FR 31391 (May 24, 2022).

2. Aircraft Dispatchers

Subpart C of part 65 promulgates the requirements to obtain an aircraft dispatcher certificate. Currently, § 65.59 requires an applicant for an aircraft dispatcher certificate to pass a practical test by demonstrating skill in applying the areas of knowledge and topics in appendix A of part 65 to preflight and all phases of flight, including abnormal and emergency procedures. Appendix A contains the areas of knowledge necessary to perform dispatcher functions, and indicates the minimum set of topics that must be covered in a training course for aircraft dispatcher certification required by § 65.61, Aircraft dispatcher certification courses: Content and minimum hours.

Similar to part 61, the FAA set forth the specific topics to be tested on the aircraft dispatcher practical test directly in the regulations governing such crewmembers in part 65 until 1999.⁶⁶ In 1999,⁶⁷ the FAA amended the eligibility and certification requirements for aircraft dispatchers, to include removal of the specific topics in § 65.59 to be tested on the practical test. Instead, the FAA tethered the practical test to the aircraft dispatcher practical test standards, as published by the FAA, on the items specified in appendix A of part 65.⁶⁸ This aligned with the FAA's general disposition in part 61 to remove specific topics and instead broadly reference the practical test standards. In 2018, the FAA removed the reference to the aircraft dispatcher PTS to be consistent with editorial changes made to other parts ⁶⁹ pertaining to the certification of airman. In its place, the FAA required an applicant to demonstrate skill in applying the areas of knowledge and topics provided in appendix A of part 65 in the regulations, but explained in the final rule preamble that the practical test would continue to be based on the aircraft dispatcher PTS.⁷⁰

⁶⁶ Before 1962, § 27.33 promulgated the skill requirements and listed subject areas the practical test covered. In 1962, § 27.33 was relocated to § 65.59, with no substantive revisions to the list of practical test subject areas. Final Rule, Addition of Subchapter, 27 FR 7954 (Aug. 10, 1962).

⁶⁷ Final Rule, Revision of Certification Requirements: Aircraft Dispatchers, 64 FR 68916 (Apr. 6, 2000).

⁶⁸ Appendix A of part 65 sets forth the areas of knowledge necessary to perform dispatcher functions, which function as the minimum set of topics that must be covered in a training course for aircraft dispatcher certification.

⁶⁹ As discussed in section III.A. of this preamble, the FAA removed direct references to the PTS in part 61 as well.

⁷⁰ 83 FR at 30269.

Currently, FAA inspectors and designated examiners conduct aircraft dispatcher tests in accordance with the Aircraft Dispatcher PTS; however, the Aircraft Dispatcher PTS is not a regulatory standard for the practical test. The Aircraft Dispatcher PTS contains knowledge and skill tasks that an applicant must demonstrate to pass the practical test for an Aircraft Dispatcher certificate. Specifically, the Aircraft Dispatcher PTS contains areas of operation, which are divided into tasks (e.g., navigation and aircraft navigation systems, practical dispatch applications). Each task lists an objective, which consists of the elements that must be satisfactorily performed to demonstrate competency. Specifically, the objective includes what the applicant must be able to do, the conditions under which the task is to be performed, and the minimum acceptable standards of performance. The FAA notes that the Aircraft Dispatcher PTS objectives within the Tasks of the areas of operation generally align to the topics set forth in appendix A. This proposed revision to require compliance with the PTS rather than appendix A would not add topics or substantive changes to what is currently contained on the practical test.⁷¹

⁷¹ The FAA is not inclined to remove Appendix A due to possible unforeseen effects on aircraft dispatcher course curriculum that are already in use and has determined that requiring an aircraft dispatcher course to align their curriculum with the Aircraft Dispatcher PTS would be out of the scope of this rule at this time.

Therefore, the FAA proposes to revise § 65.59 to direct compliance with the Aircraft Dispatcher PTS in practical testing. Specifically, proposed § 65.59 will require an aircraft dispatcher to satisfactorily demonstrate the objectives in the areas of operation specified in the Aircraft Dispatcher PTS. Proposed § 65.59 would cross reference the centralized IBR section, § 65.23, for publication information on the PTS.

3. Parachute Riggers

Subpart F of part 65 governs the requirements to obtain a senior parachute rigger and master parachute rigger certificate. Both a senior parachute rigger and a master parachute rigger require the passage of an oral and practical test for the issuance of a certificate.⁷² Likewise, the addition of a type rating to a parachute rigger certificate (i.e., seat, back, chest, and/or lap type rating) requires the certificated parachute rigger to pass a practical test.⁷³ Due to the unique nature of the job duties of a parachute rigger, the regulations have broadly required that the oral and practical test must examine the applicant's ability to pack and maintain a parachute.⁷⁴ In practice, the Parachute Rigger PTS is utilized to conduct the oral and practical test for obtaining a senior parachute rigger certificate and master parachute rigger certificate and is also utilized for the practical test for obtaining type ratings for seat, back, chest, and lap. Specifically, the Parachute Rigger PTS contains areas of operation (e.g., packing parachutes, parachute operation and care), which are divided into tasks that are specified as applicable to the certificate and/or rating sought. For example, a task that is only involved in a seat type rating is delineated as such (i.e., Task A: Packing Seat Type Parachute (Seat Type Rating)). Each task lists an objective, which consists of the elements that must be satisfactorily performed to demonstrate competency. Specifically, the objective includes what the applicant must be able to do, the conditions under which the task is to be performed, and the minimum acceptable standards of performance.

⁷² 14 CFR 61.115, 61.119.

⁷³ 14 CFR 65.123(b).

⁷⁴ Pursuant to 14 CFR 65.115, the oral and practical test for a senior parachute rigger certificate requires the applicant to show the ability to pack and maintain at least one type of parachute in common use, appropriate to the type rating sought. Pursuant to 14 CFR 65.119, the oral and practical test for a master parachute rigger certificate requires the applicant to show the ability to pack and maintain two types of parachutes in common use, appropriate to the type rating sought. Pursuant to 14 CFR 65.123, a certificated parachute rigger who applies for an additional type rating must pass a practical test showing the ability to pack and maintain the type of parachute applicable to the type rating sought.

The FAA proposes to revise §§ 65.115 and 65.119 to require the applicant to pass the oral and practical test by satisfactorily demonstrating the objectives in the areas of operation in the Parachute Rigger PTS applicable as appropriate to the respective certificate (i.e., senior parachute rigger, master parachute rigger) and type rating sought. Further, should a certificated parachute rigger apply for an additional type rating (i.e., seat, back, chest, lap), that applicant must pass a practical test appropriate to the type rating sought, pursuant to § 65.123. Because the testing standards for each type rating are contained and specified in the Parachute Rigger PTS, the FAA proposes to revise § 65.123(b) to require that, in order to pass a practical test for an additional type rating, an applicant must satisfactorily demonstrate the objectives in the area of operation applicable to the type rating sought, which are specified in the Parachute Rigger PTS. Sections 65.115, 65.119, and 65.123 will each cross reference the centralized IBR section, § 65.23, for publication information on the Parachute Rigger PTS.

The FAA is also proposing minor editorial revisions in §§ 65.115, 65.119, and 65.123 to remove gender references.

IV. Regulatory Notices and Analyses

Federal agencies consider impacts of regulatory actions under a variety of executive orders and other requirements. First, Executive Order 12866 and Executive Order 13563 direct that each Federal agency shall propose or adopt a regulation only upon a reasoned determination that the benefits of the intended regulation justify the costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. Fourth, the Unfunded Mandates Reform Act of 1995 (Pub. L. 104-4) requires agencies to prepare a written assessment of the costs, benefits, and other effects of proposed or final rules that include a Federal mandate that may result in the expenditure by State, local, and tribal governments, in the aggregate, or by the private sector, of $100,000,000 or more (adjusted annually for inflation) in any one year. The current threshold after adjustment for inflation is $164,000,000, using the most current (2021) Implicit Price Deflator for the Gross Domestic Product. This portion of the preamble summarizes the FAA's analysis of the economic impacts of this rule.

In conducting these analyses, the FAA has determined that this rule: will result in benefits that justify costs; is not an economically “significant regulatory action” as defined in section 3(f) of Executive Order 12866; will not have a significant economic impact on a substantial number of small entities; will not create unnecessary obstacles to the foreign commerce of the United States; and will not impose an unfunded mandate on State, local, or tribal governments, or on the private sector.

A. Regulatory Evaluation

1. Need for the Regulation

Through this rulemaking, the FAA is proposing to incorporate by reference (IBR) certain PTSs and ACSs into parts 61, 63, and 65 so the standards carry the full force and effect of regulation. Because of the unique nature of the PTS and ACS documents, which are lengthy and contain complex and technical tables, the FAA proposes the mechanism of IBR. IBR allows Federal agencies to comply with the requirements of the APA to publish rules in the Federal Register and the Code of Federal Regulations by referring to material published elsewhere. Material that is incorporated by reference has the same legal status as if it were published in full in the Federal Register.

2. Baseline for the Analysis

Title 14 Code of Federal Regulations (14 CFR) parts 61, 63, and 65 prescribe the requirements for airmen to obtain a certificate and/or rating. Each part contains the general requirements for eligibility, aeronautical knowledge, flight proficiency, and aeronautical experience requirements, as applicable, for each certificate and/or rating sought. This generally includes the requirement to pass a practical test specific to the certificate or rating sought.

The PTS and the ACS impose requirements on all persons seeking an airman certificate or rating. The PTS and ACS require an applicant seeking a certificate or rating to complete specific tasks and maneuvers to a minimum given standard in order to obtain the applicable certificate or rating. As such, if an applicant does not perform a task to the prescribed standard, found in the applicable ACS or PTS, the applicant cannot obtain the applicable certificate and rating. Unsatisfactory performance results in a notice of disapproval and/or denial of the certificate or rating. The PTSs and the ACSs, which are proposed by this rule to be incorporated by reference, are the testing standards that are already in use or the process by which the practical test is conducted.

3. Benefits

The mechanism of IBR allows Federal Agencies to comply with the requirement to publish rules in the Federal Register and the CFR by referring to material already published elsewhere.⁷⁵ IBR functions to substantially reduce the size of the 14 CFR part 61, 63 and 65, which would otherwise require the PTSs and ACSs to be replicated in their entirety into the regulations, resulting in hundreds of additional pages including complex and technical tables that would be unsuitable for the CFR. The FAA would continue to draw on the expertise and resources of the aviation industry to develop and update the testing standards and strengthen private-public collaboration and transparency. IBR would maintain public and private industry collaboration. Additionally, while the practical tests are currently conducted in accordance with the PTSs and ACSs, applicants for a certificate and/or rating, and pilots completing proficiency checks, would be better informed about the exact tasks and objectives required to successfully complete each area of operation because evaluators would be required to test on the exact tasks contained in the applicable PTS and/or ACS. Further, instructors are encouraged to utilize the applicable ACS and/or PTS during training to ensure applicants are equipped with the knowledge and proficiency to successfully complete a practical test or proficiency check. Applicants and instructors are, therefore, benefitted by transparency and specificity in test preparation.

⁷⁵ IBR Handbook, Office of the Federal Register (July, 2018).

4. Costs

The FAA has evaluated the cost impacts to the stakeholders involved in this proposed rulemaking, which includes airmen and the FAA. As discussed in the preceding preamble section, the FAA noted the addition of tasks within four ACSs (Commercial Pilot for Airplane Category ACS, Private Pilot for Rotorcraft Category Helicopter Rating ACS, Commercial Pilot for Rotorcraft Category Helicopter Rating ACS, and Flight Instructor for Rotorcraft Category Helicopter Rating ACS) and determined these additions would have minimal impact. These added tasks may be completed concurrently with tasks already required on the transitioned ACSs and add a negligible amount of time to the requisite practical test. In sum, the FAA anticipates this proposed rule would result in minimal additional cost impacts to airmen and the FAA.

Applicants and Airmen

The FAA does not anticipate new costs to applicants for an initial certificate and/or rating and existing airmen (e.g., pilots completing proficiency checks, pilots seeking additional certificates and/or ratings) because there are no substantive changes proposed to the testing processes, areas of operation, or elements upon which airmen are currently tested in order to obtain a certificate, as the practical tests are already conducted in accordance with the applicable PTS/ACS. Rather, the FAA is simply incorporating the documents by reference into the regulations to ensure compliance with the APA and provide the public with requisite notice and an opportunity to comment. Therefore, applicants seeking a certificate and/or rating and currently certificated pilots performing proficiency checks will not incur additional costs.

The FAA

The FAA does not anticipate new costs to the agency because the FAA is not changing the process by which testing is conducted or the manner in which PTSs and ACSs are currently implemented.

5. Regulatory Alternatives

The FAA did not consider regulatory alternatives for this proposed rulemaking as there are no legally supportable alternatives to mandating the requirements for airman certification and ensuring consistent standards for airman certificates and ratings.

B. Regulatory Flexibility Act

The Regulatory Flexibility Act (RFA) of 1980, Public Law 96-354, 94 Stat. 1164 (5 U.S.C. 601-612), as amended by the Small Business Regulatory Enforcement Fairness Act of 1996 (Pub. L. 104-121, 110 Stat. 857, Mar. 29, 1996) and the Small Business Jobs Act of 2010 (Pub. L. 111-240, 124 Stat. 2504 Sept. 27, 2010), requires Federal agencies to consider the effects of the regulatory action on small business and other small entities and to minimize any significant economic impact. The term “small entities” comprises small businesses and not-for-profit organizations that are independently owned and operated and are not dominant in their fields, and governmental jurisdictions with populations of less than 50,000.

The FAA has not identified any small entities that would be affected by the proposed rule because this rule does not affect the content of the practical test or how the practical test is currently conducted. While there are many small entities that employ persons who conduct practical tests on behalf of the Administrator and administer proficiency checks for airmen, there are no changes proposed to these existing procedures and exams, in practice (i.e., evaluators already utilize the applicable ACS and/or PTS). Therefore, for the reasons provided, the FAA certifies that the rule will not have a significant economic impact on a substantial number of small entities. The FAA welcomes comments on the basis for this certification.

C. International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such as the protection of safety, and does not operate in a manner that excludes imports that meet this objective. The statute also requires consideration of international standards and, where appropriate, that they be the basis for U.S. standards. The FAA has assessed the potential effects of this proposed rule and finds it does not create an unnecessary obstacle to foreign commerce.

D. Unfunded Mandates Assessment

Title II of the Unfunded Mandates Reform Act of 1995 (Pub. L. 104-4) requires each Federal agency to prepare a written statement assessing the effects of any Federal mandate in a proposed or final agency rule that may result in an expenditure of $100 million or more (in 1995 dollars) in any one year by State, local, and tribal governments, in the aggregate, or by the private sector; such a mandate is deemed to be a “significant regulatory action.” The FAA currently uses an inflation-adjusted value of $164.0 million in lieu of $100 million. The FAA has determined that the proposed rulemaking would not result in the expenditure of $164.0 million or more by State, local, or tribal governments, in the aggregate, or the private sector, in any one year.

E. Paperwork Reduction Act

The Paperwork Reduction Act of 1995 (44 U.S.C. 3507(d)) requires that the FAA consider the impact of paperwork and other information collection burdens imposed on the public. The FAA has determined that there would be no new requirement for information collection associated with this proposed rule.

F. International Compatibility

In keeping with U.S. obligations under the Convention on International Civil Aviation, it is FAA policy to conform to International Civil Aviation Organization (ICAO) Standards and Recommended Practices to the maximum extent practicable. The FAA has reviewed the corresponding ICAO Standards and Recommended Practices and has identified no substantive differences with these proposed regulations.

G. Environmental Analysis

FAA Order 1050.1F identifies FAA actions that are categorically excluded from preparation of an environmental assessment or environmental impact statement under the National Environmental Policy Act in the absence of extraordinary circumstances. The FAA has determined this rulemaking action qualifies for the categorical exclusion identified in paragraph 5-6.6f for regulations and involves no extraordinary circumstances.

V. Executive Order Determinations

A. Executive Order 13132, Federalism

The FAA has analyzed this proposed rule under the principles and criteria of Executive Order (E.O.) 13132, Federalism. The agency has determined that this action would not have a substantial direct effect on the States, or the relationship between the Federal Government and the States, or on the distribution of power and responsibilities among the various levels of government, and, therefore, would not have federalism implications.

B. Executive Order 13211, Regulations That Significantly Affect Energy Supply, Distribution, or Use

The FAA analyzed this proposed rule under E.O. 13211, Actions Concerning Regulations that Significantly Affect Energy Supply, Distribution, or Use (May 18, 2001). The agency has determined that it would not be a “significant energy action” under the executive order and would not be likely to have a significant adverse effect on the supply, distribution, or use of energy.

C. Executive Order 13609, International Cooperation

Executive Order 13609, Promoting International Regulatory Cooperation, promotes international regulatory cooperation to meet shared challenges involving health, safety, labor, security, environmental, and other issues and to reduce, eliminate, or prevent unnecessary differences in regulatory requirements. The FAA has analyzed this action under the policies and agency responsibilities of E.O. 13609, and has determined that this action would have no effect on international regulatory cooperation.

VI. Additional Information

A. Comments Invited

The FAA invites interested persons to participate in this rulemaking by submitting written comments, data, or views. The agency also invites comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The agency may change this proposal in light of the comments it receives.

Confidential Business Information: Confidential Business Information (CBI) is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to the person identified in the FOR FURTHER INFORMATION CONTACT section of this document. Any commentary that the FAA receives which is not specifically designated as CBI will be placed in the public docket for this rulemaking.

B. Electronic Access and Filing

A copy of the notice of proposed rulemaking (NPRM), all comments received, any final rule, and all background material may be viewed online at https://www.regulations.gov using the docket number listed above. A copy of this rule will be placed in the docket. Electronic retrieval help and guidelines are available on the website. It is available 24 hours each day, 365 days each year. An electronic copy of this document may also be downloaded from the Office of the Federal Register's website at https://www.federalregister.gov and the Government Publishing Office's website at https://www.govinfo.gov. A copy may also be found at the FAA's Regulations and Policies website at https://www.faa.gov/regulations_policies.

Copies may also be obtained by sending a request to the Federal Aviation Administration, Office of Rulemaking, ARM-1, 800 Independence Avenue SW, Washington, DC 20591, or by calling (202) 267-9677. Commenters must identify the docket or notice number of this rulemaking.

All documents the FAA considered in developing this proposed rule, including economic analyses and technical reports, may be accessed in the electronic docket for this rulemaking.

List of Subjects

14 CFR Part 61

Aircraft, Airmen, Alcohol abuse, Aviation safety, Drug abuse, Incorporation by reference, Recreation and recreation areas, Reporting and recordkeeping requirements, Security measures, Teachers.

14 CFR Part 63

Aircraft, Airmen, Alcohol abuse, Aviation safety, Drug abuse, Incorporation by reference, Navigation (air), Reporting and recordkeeping requirements, Security measures.

14 CFR Part 65

Air traffic controllers, Aircraft, Airmen, Airports, Alcohol abuse, Aviation safety, Drug abuse, Incorporation by reference, Reporting and recordkeeping requirements, Security measures.

The Proposed Amendment

In consideration of the foregoing, the Federal Aviation Administration proposes to amend chapter I of title 14, Code of Federal Regulations as follows:

PART 61—CERTIFICATION: PILOTS, FLIGHT INSTRUCTORS, AND GROUND INSTRUCTORS

1. The authority section for part 61 continues to read as follows:

Authority: 49 U.S.C. 106(f), 106(g), 40113, 44701-44703, 44707, 44709-44711, 44729, 44903, 45102-45103, 45301-45302; Sec. 2307 Pub. L. 114-190, 130 Stat. 615 (49 U.S.C. 44703 note).

2. Add § 61.14 to read as follows:

§ 61.14 Incorporation by Reference.

Certain material is incorporated by reference into this part with the approval of the Director of the Federal Register in accordance with 5 U.S.C. 552(a) and 1 CFR part 51. All approved incorporation by reference (IBR) material is available for inspection at the Federal Aviation Administration (FAA) and at the National Archives and Records Administration (NARA). Contact FAA at: Airman Testing Standards Branch/Regulatory Support Division, 405-954-4151, AFS630Comments@faa.gov. For information on the availability of this material at 1NARA, visit: www.archives.gov/federal-register/cfr/ibr-locations.html or email: fr.inspection@nara.gov. The material may be obtained from the Federal Aviation Administration, 800 Independence Avenue SW, Washington, DC 20591, 866-835-5322, www.faa.gov/training testing.

(a) Practical Test Standards.

(1) FAA-S-8081-3B, Recreational Pilot Practical Test Standards for Airplane Category and Rotorcraft Category; (date to be included); IBR approved for §§ 61.43(a), 61.58(d), 61.321(b), and 61.419(b), and Appendix A to this part.

(2) FAA-S-8081-7C, Flight Instructor Practical Test Standards for Rotorcraft Category Gyroplane Rating; (date to be included); IBR approved for §§ 61.43(a), 61.58(d), 61.321(b), and 61.419(b), and Appendix A to this part.

(3) FAA-S-8081-8C, Flight Instructor Practical Test Standards for Glider Category; (date to be included); IBR approved for §§ 61.43(a), 61.58(d), 61.321(b), and 61.419(b), and Appendix A to this part.

(4) FAA-S-8081-9E, Flight Instructor Instrument Practical Test Standards for Airplane Rating and Helicopter Rating; (date to be included); IBR approved for §§ 61.43(a), 61.58(d), 61.321(b), and 61.419(b), and Appendix A to this part.

(5) FAA-S-8081-15B, Private Pilot Practical Test Standards for Rotorcraft Category Gyroplane Rating; (date to be included); IBR approved for §§ 61.43(a), 61.58(d), 61.321(b), and 61.419(b), and Appendix A to this part.

(5) FAA-S-8081-16C, Commercial Pilot Practical Test Standards for Rotorcraft Category Gyroplane Rating; (date to be included); IBR approved for §§ 61.43(a), 61.58(d), 61.321(b), and 61.419(b), and Appendix A to this part.

(6) FAA-S-8081-17A, Private Pilot Practical Test Standards for Lighter-Than-Air Category; (date to be included); IBR approved for §§ 61.43(a), 61.58(d), 61.321(b), and 61.419(b), and Appendix A to this part.

(7) FAA-S-8081-18A, Commercial Pilot Practical Test Standards for Lighter-Than-Air Category; (date to be included); IBR approved for §§ 61.43(a), 61.58(d), 61.321(b), and 61.419(b), and Appendix A to this part.

(8) FAA-S-8081-20A, Airline Transport Pilot and Type Rating Practical Test Standards for Rotorcraft Category Helicopter Rating; (date to be included); IBR approved for §§ 61.43(a), 61.58(d), 61.321(b), and 61.419(b), and Appendix A to this part.

(9) FAA-S-8081-22A, Private Pilot Practical Test Standards for Glider Category; (date to be included); IBR approved for §§ 61.43(a), 61.58(d), 61.321(b), and 61.419(b), and Appendix A to this part.

(10) FAA-S-8081-23B, Commercial Pilot Practical Test Standards for Glider Category; (date to be included); IBR approved for §§ 61.43(a), 61.58(d), 61.321(b), and 61.419(b), and Appendix A to this part.

(11) FAA-S-8081-29A, Sport Pilot and Sport Pilot Flight Instructor Rating Practical Test Standards for Airplane Category, Rotorcraft Category, and Glider Category; (date to be included); IBR approved for §§ 61.43(a), 61.58(d), 61.321(b), and 61.419(b), and Appendix A to this part.

(12) FAA-S-8081-30A, Sport Pilot and Sport Pilot Flight Instructor Rating Practical Test Standards for Lighter-Than-Air Category; (date to be included); IBR approved for §§ 61.43(a), 61.58(d), 61.321(b), and 61.419(b), and Appendix A to this part.

(13) FAA-S-8081-31A, Sport Pilot and Sport Pilot Flight Instructor Practical Test Standards for Powered Parachute Category and Weight-Shift-Control Category; (date to be included); IBR approved for §§ 61.43(a), 61.58(d), 61.321(b), and 61.419(b), and Appendix A to this part.

(14) FAA-S-8081-32A, Private Pilot Practical Test Standards for Powered Parachute Category and Weight-Shift-Control Category; (date to be included); IBR approved for §§ 61.43(a), 61.58(d), 61.321(b), and 61.419(b), and Appendix A to this part.

(b) Airman Certification Standards.

(1) FAA-S-ACS-2, Commercial Pilot for Powered-Lift Category Airman Certification Standards; (date to be included); IBR approved for §§ 61.43(a), 61.57, 61.58, and Appendix A to this part.

(2) FAA-S-ACS-3, Instrument Rating—Powered-Lift Airman Certification Standards; (date to be included); IBR approved for §§ 61.43(a), 61.57, 61.58, and Appendix A to this part.

(3) FAA-S-ACS-6C, Private Pilot for Airplane Category Airman Certification Standards; (date to be included); IBR approved for §§ 61.43(a), 61.57, 61.58, and Appendix A to this part.

(4) FAA-S-ACS-7B, Commercial Pilot for Airplane Category Airman Certification Standards; (date to be included); IBR approved for §§ 61.43(a), 61.57, 61.58, and Appendix A to this part.

(5) FAA-S-ACS-8C, Instrument Rating—Airplane Airman Certification Standards; (date to be included); IBR approved for §§ 61.43(a), 61.57, 61.58, and Appendix A to this part.

(6) FAA-S-ACS-11A, Airline Transport Pilot and Type Rating for Airplane Category Airman Certification Standards; (date to be included); IBR approved for §§ 61.43(a), 61.57, 61.58, and Appendix A to this part.

(7) FAA-S-ACS-13, Private Pilot for Powered-Lift Category Airman Certification Standards; (date to be included); IBR approved for §§ 61.43(a), 61.57, 61.58, and Appendix A to this part.

(8) FAA-S-ACS-14, Instrument Rating—Helicopter Airman Certification Standards; (date to be included); IBR approved for §§ 61.43(a), 61.57, 61.58, and Appendix A to this part.

(9) FAA-S-ACS-15, Private Pilot for Rotorcraft Category Helicopter Rating Airman Certification Standards; (date to be included); IBR approved for §§ 61.43(a), 61.57, 61.58, and Appendix A to this part.

(10) FAA-S-ACS-16, Commercial Pilot for Rotorcraft Category Helicopter Rating Airman Certification Standards; (date to be included); IBR approved for §§ 61.43(a), 61.57, 61.58, and Appendix A to this part.

(11) FAA-S-ACS-17, Airline Transport Pilot and Type Rating for Powered-Lift Category Airman Certification Standards; (date to be included); IBR approved for §§ 61.43(a), 61.57, 61.58, and Appendix A to this part

(12) FAA-S-ACS-25, Flight Instructor for Airplane Category Airman Certification Standards; (date to be included); IBR approved for §§ 61.43(a), 61.57, 61.58, and Appendix A to this part.

(13) FAA-S-ACS-27, Flight Instructor for Powered-Lift Category Airman Certification Standards; FAA-S-ACS-27; (date to be included); IBR approved for §§ 61.43(a), 61.57, 61.58, and Appendix A to this part.

(14) FAA-S-ACS-28, Flight Instructor Instrument Powered-Lift Airman Certification Standards; (date to be included); IBR approved for §§ 61.43(a), 61.57, 61.58, and Appendix A to this part.

(15) FAA-S-ACS-29, Flight Instructor for Rotorcraft Category Helicopter Rating Airman Certification Standards; (date to be included); IBR approved for §§ 61.43(a), 61.57, 61.58, and Appendix A to this part.

3. Amend § 61.43 by revising paragraphs (a)(1), (a)(2), and (a)(3) to read as follows:

§ 61.43 Practical tests: General procedures.

(a) * * *

(1) Performing the tasks specified in the areas of operation contained in the applicable Airmen Certification Standards or Practical Test Standards (incorporated by reference, see § 61.14) as listed in appendix A of this part for the airman certificate or rating sought;

(2) Demonstrating mastery of the aircraft by performing each task required by paragraph (a)(1) of this section successfully,

(3) Demonstrating proficiency and competency of the tasks required by paragraph (a)(1) of this section within the approved standards; and

* * * * *

4. Amend § 61.57 by revising paragraph (d)(1) to read as follows:

§ 61.57 Recent flight experience: Pilot in command.

* * * * *

(d) * * *

(1) Except as provided in paragraph (e) of this section, a person who has failed to meet the instrument experience requirements of paragraph (c) of this section for more than six calendar months may reestablish instrument currency only by completing an instrument proficiency check. The instrument proficiency check must consist of the areas of operation contained in the applicable Airman Certification Standards (incorporated by reference, see § 61.14); as listed in appendix A of this part as appropriate to the rating held.

* * * * *

5. Amend § 61.58 by revising paragraph (d)(1) to read as follows:

§ 61.58 Pilot-in-command proficiency check: Operation of an aircraft that requires more than one pilot flight crewmember or is turbojet-powered.

* * * * *

(d) * * *

(1) A pilot-in-command proficiency check conducted by a person authorized by the Administrator, consisting of the areas of operation contained in the applicable Airman Certification Standards or Practical Test Standards (incorporated by reference, see § 61.14) as listed in appendix A of this part appropriate to the rating held, in an aircraft that is type certificated for more than one pilot flight crewmember or is turbojet powered;

* * * * *

6. Amend § 61.157 by revising paragraphs (e), (e)(1), (e)(2), and (e)(3) to read as follows.

§ 61.157 Flight Proficiency.

* * * * *

(e) Areas of Operation. A practical test will include normal and abnormal procedures, as applicable, within the areas of operation for practical tests for an airplane category and powered-lift category rating.

(1) For an airplane category—single engine class rating:

(i) Preflight preparation;

(ii) Preflight procedures;

(iii) Takeoffs and Landings;

(iv) In-flight maneuvers;

(v) Stall Prevention

(vi) Instrument procedures;

(vii) Emergency operations; and

(viii) Postflight procedures.

(2) For an airplane category—multiengine class rating:

(i) Preflight preparation;

(ii) Preflight procedures;

(iii) Takeoffs and Landings;

(iv) In-flight maneuvers;

(v) Stall Prevention

(vi) Instrument procedures;

(vii) Emergency operations; and

(viii) Postflight procedures.

(3) For a powered-lift category rating:

(i) Preflight preparation;

(ii) Preflight procedures;

(iii) Takeoffs and Departure phase;

(iv) In-flight maneuvers;

(v) Instrument procedures;

(vi) Landings and approaches to landings;

(vii) Emergency operations; and

(viii) Postflight procedures.

* * * * *

7. Amend § 61.321 by revising paragraph (b) to read as follows:

§ 61.321 How do I obtain privileges to operate an additional category or class of light-sport aircraft?

* * * * *

(b) Successfully complete a proficiency check from an authorized instructor, other than the instructor who trained you, consisting of the tasks in the appropriate areas of operation contained in the applicable Practical Test Standards (incorporated by reference, see § 61.14) as listed in appendix A of this part for the additional light-sport aircraft privilege you seek;

* * * * *

8. Amend § 61.419 by revising paragraph (b) to read as follows:

§ 61.419 How do I obtain privileges to provide training in an additional category or class of light-sport aircraft?

* * * * *

(b) Successfully complete a proficiency check from an authorized instructor, other than the instructor who trained you, consisting of the tasks in the appropriate areas of operation contained in the applicable Practical Test Standards (incorporated by reference, see § 61.14) as listed in appendix A of this part for the additional category and class flight instructor privilege you seek;

* * * * *

9. Add Appendix A to part 61 to read as follows:

Appendix A to Part 61—Airman Certification Standards and Practical Test Standards

If you are seeking this certificate, rating, and/or privilege. . . | Then this PTS/ACS (incorporated by reference, see § 61.14) is applicable:
Airline Transport Pilot Certificate; Airplane Category—Single-Engine Land Rating, Airplane Category—Single-Engine Sea Rating, Airplane Category—Multiengine Land Rating, Airplane Category—Multiengine Sea Rating | Airline Transport Pilot and Type Rating for Airplane Category Airman Certification Standards; (date to be included).
Airline Transport Pilot Certificate; Rotorcraft Category—Helicopter Rating | Airline Transport Pilot and Type Rating Practical Test Standards for Rotorcraft Category Helicopter Rating; (date to be included).
Airline Transport Pilot Certificate; Powered-Lift Category | Airline Transport Pilot and Type Rating for Powered-Lift Category Airman Certification Standards; (date to be included).
Commercial Pilot Certificate; Airplane Category—Single-Engine Land Rating, Airplane Category—Single-Engine Sea Rating, Airplane Category—Multiengine Land Rating, Airplane Category—Multiengine Sea Rating | Commercial Pilot for Airplane Category Airman Certification Standards; (date to be included).
Commercial Pilot Certificate; Rotorcraft Category—Helicopter Rating | Commercial Pilot for Rotorcraft Category Helicopter Rating Airman Certification Standards; (date to be included).
Commercial Pilot Certificate; Rotorcraft Category—Gyroplane Rating | Commercial Pilot Practical Test Standards for Rotorcraft Category Gyroplane Rating; (date to be included).
Commercial Pilot Certificate; Powered-Lift Category | Commercial Pilot for Powered-Lift Category Airman Certification Standards; (date to be included).
Commercial Pilot Certificate; Glider Category | Commercial Pilot Practical Test Standards for Glider Category; (date to be included).
Commercial Pilot Certificate; Lighter-Than-Air Category—Airship Rating, Lighter-Than-Air Category—Balloon Rating | Commercial Pilot Practical Test Standards for Lighter-Than-Air Category; (date to be included).
Private Pilot Certificate; Airplane Category—Single-Engine Land Rating, Airplane Category—Single-Engine Sea Rating, Airplane Category—Multiengine Land Rating, Airplane Category—Multiengine Sea | Private Pilot for Airplane Category Airman Certification Standards; (date to be included).
Private Pilot Certificate; Rotorcraft Category—Helicopter Rating | Private Pilot for Rotorcraft Category Helicopter Rating Airman Certification Standards; (date to be included).
Private Pilot Certificate; Rotorcraft Category—Gyroplane Rating | Private Pilot Practical Test Standards for Rotorcraft Category Gyroplane Rating; (date to be included).
Private Pilot Certificate; Powered-Lift Category | Private Pilot for Powered-Lift Category Airman Certification Standards; (date to be included).
Private Pilot Certificate; Glider Category | Private Pilot Practical Test Standards for Glider Category; (date to be included).
Private Pilot Certificate; Lighter-Than-Air Category—Airship Rating, Lighter-Than-Air Category—Balloon Rating | Private Pilot Practical Test Standards for Lighter-Than-Air Category; (date to be included).
Private Pilot Certificate; Powered Parachute Category—Land Rating, Powered Parachute Category—Sea Rating, Weight-Shift-Control Aircraft Category—Land Rating, Weight-Shift-Control Aircraft Category—Sea Rating | Private Pilot Practical Test Standards for Powered Parachute Category and Weight-Shift-Control Category; (date to be included).
Recreational Pilot Certificate; Airplane Category—Single-Engine Land Rating, Airplane Category—Single-Engine Sea Rating, Rotorcraft Category—Helicopter Rating, Rotorcraft Category—Gyroplane Rating | Recreational Pilot Practical Test Standards for Airplane Category and Rotorcraft Category; (date to be included).
Sport Pilot Certificate; Airplane Category—Single-Engine Land Privileges, Airplane Category—Single-Engine Sea Privileges, Rotorcraft Category—Gyroplane Privileges, Glider Category | Sport Pilot and Sport Pilot Flight Instructor Rating Practical Test Standards for Airplane Category, Rotorcraft Category, and Glider Category; (date to be included).
Flight Instructor Certificate with a Sport Pilot Rating; Airplane Category—Single-Engine Privileges, Rotorcraft Category—Gyroplane Privileges, Glider Category |
Sport Pilot Certificate; Lighter-Than-Air Category—Airship Privileges, Lighter-Than-Air Category—Balloon Privileges | Sport Pilot and Sport Pilot Flight Instructor Rating Practical Test Standards for Lighter-Than-Air Category; (date to be included).
Flight Instructor Certificate with a Sport Pilot Rating; Lighter-Than-Air Category—Airship Privileges, Lighter-Than-Air Category—Balloon Privileges |
Sport Pilot Certificate; Powered Parachute Category—Land Privileges, Powered Parachute Category—Sea Privileges, Weight-Shift-Control Aircraft Category—Land Privileges, Weight-Shift-Control Aircraft Category—Sea Privileges | Sport Pilot and Sport Pilot Flight Instructor Rating Practical Test Standards for Powered Parachute Category and Weight-Shift-Control Category; (date to be included).
Flight Instructor Certificate with a Sport Pilot Rating; Powered Parachute Category Privileges, Weight-Shift-Control Aircraft Category Privileges |
Instrument Rating—Airplane, Instrument Proficiency Check—Airplane | Instrument Rating—Airplane Airman Certification Standards; (date to be included).
Instrument Rating—Helicopter, Instrument Proficiency Check—Helicopter | Instrument Rating—Helicopter Airman Certification Standards; (date to be included).
Instrument Rating—Powered-Lift, Instrument Proficiency Check—Powered-Lift | Instrument Rating—Powered-Lift Airman Certification Standards; (date to be included).
Flight Instructor Certificate; Airplane Category—Single Engine Rating, Airplane Category—Multiengine Rating | Flight Instructor for Airplane Category Airman Certification Standards; (date to be included).
Flight Instructor Certificate; Rotorcraft Category—Helicopter Rating | Flight Instructor for Rotorcraft Category Helicopter Rating Airman Certification Standards; (date to be included).
Flight Instructor Certificate; Rotorcraft Category—Gyroplane Rating | Flight Instructor Practical Test Standards for Rotorcraft Category Gyroplane Rating; (date to be included).
Flight Instructor Certificate; Powered-lift Category | Flight Instructor for Powered-Lift Category Airman Certification Standards; (date to be included).
Flight Instructor Certificate; Glider Category | Flight Instructor Practical Test Standards for Glider Category; (date to be included).
Flight Instructor Certificate; Instrument—Airplane Rating Instrument—Helicopter Rating | Flight Instructor Instrument Practical Test Standards for Airplane Rating and Helicopter Rating; (date to be included).
Flight Instructor Certificate; Instrument—Powered-Lift Rating | Flight Instructor Instrument Powered-Lift Rating Airman Certification Standards; (date to be included).
Aircraft Type Rating—Airplane | Airline Transport Pilot and Type Rating for Airplane Category Airman Certification Standards; (date to be included).
Aircraft Type Rating—Helicopter | Airline Transport Pilot and Type Rating Practical Test Standards for Rotorcraft Category Helicopter Rating; (date to be included).
Aircraft Type Rating—Powered-Lift | Airline Transport Pilot and Type Rating for Powered-Lift Category Airman Certification Standards; (date to be included).
Pilot-in-Command Proficiency Check—Airplane | Airline Transport Pilot and Type Rating for Airplane Category Airman Certification Standards; (date to be included).
Pilot-in-Command Proficiency Check—Helicopter | Airline Transport Pilot and Type Rating Practical Test Standards for Rotorcraft Category Helicopter Rating; (date to be included).
Pilot-in-Command Proficiency Check—Powered-Lift | Airline Transport Pilot and Type Rating for Powered-Lift Category Airman Certification Standards; (date to be included).

PART 63—CERTIFICATION: FLIGHT CREWMEMBERS OTHER THAN PILOTS

10. The authority citation for part 63 continues to read as follows:

Authority: 49 U.S.C. 106(f), 106(g), 40113, 44701-44703, 44707, 44709-44711, 45102-45103, 45301-45302.

11. Revise § 63.39 to read as follows:

§ 63.39 Skill requirements.

(a) An applicant for a flight engineer certificate with a class rating must pass a practical test in the class of airplane for which a rating is sought. To pass the practical test for a flight engineer certificate, the applicant must satisfactorily demonstrate the objectives in the areas of operation specified in the Flight Engineer Practical Test Standards, referenced in paragraph (c) of this section. The test may only be given on an airplane specified in § 63.37(a).

(b) The applicant must—

(1) Show that the applicant can satisfactorily perform preflight inspection, servicing, starting, pretakeoff, and postlanding procedures;

(2) In flight, show that the applicant can satisfactorily perform the normal duties and procedures relating to the airplane, airplane engines, propellers (if appropriate), systems, and appliances; and

(3) In flight, in an airplane simulator, or in an approved flight engineer training device, show that the applicant can satisfactorily perform emergency duties and procedures and recognize and take appropriate action for malfunctions of the airplane, engines, propellers (if appropriate), systems and appliances.

(c) FAA-S-8081-21A, Flight Engineer Practical Test Standards, [date to be included], is incorporated by reference into this section with the approval of the Director of the Federal Register under 5 U.S.C. 552(a) and 1 CFR part 51. This material is available for inspection at the Federal Aviation Administration (FAA) and the National Archives and Records Administration (NARA). Contact FAA at: Airman Testing Standards Branch/Regulatory Support Division, 405-954-4151, AFS630Comments@faa.gov, www.faa.gov/training_testing. For information on the availability of this material at NARA, visit: www.archives.gov/federal-register/cfr/ibr-locations.html, or email: fr.inspection@nara.gov. The material may be obtained from FAA, 800 Independence Avenue SW, Washington, DC 20591, 866-835-5322, www.faa.gov/training_testing.

PART 65—CERTIFICATION: AIRMEN OTHER THAN FLIGHT CREWMEMBERS

12. The authority citation for part 65 continues to read as follows:

Authority: 49 U.S.C. 106(f), 106(g), 40113, 44701-44703, 44707, 44709-44711, 45102-45103, 45301-45302.

13. Amend § 65.23 by:

a. Redesignating paragraphs (a)(1) and (2) as paragraphs (a)(3) and (4), respectively; and

b. Adding new paragraphs (a)(1) and (2) to read as follows:

§ 65.23 Incorporation by reference.

* * * * *

(a) * * *

(1) FAA-S-8081-10E, Aircraft Dispatcher Practical Test Standards; (date to be included); IBR approved for § 65.59.

(2) FAA-S-8081-25C, Parachute Riggers Practical Test Standards; (date to be included); IBR approved for §§ 65.115(c), 65.119(c), and 65.123(b).

* * * * *

14. Revise § 65.59 to read as follows:

§ 65.59 Skill requirements.

An applicant for an aircraft dispatcher certificate must pass a practical test given by the Administrator, with respect to any one type of large aircraft used in air carrier operations. To pass the practical test for an aircraft dispatcher certificate, the applicant must satisfactorily demonstrate the objectives in the areas of operation specified in the Aircraft Dispatcher Practical Test Standards (incorporated by reference, see § 65.23).

15. Amend § 65.115 by revising paragraph (c) to read as follows:

§ 65.115 Senior parachute rigger certificate: Experience, knowledge, and skill requirements.

* * * * *

(c) Pass an oral and practical test showing the applicant's ability to pack and maintain at least one type of parachute in common use, appropriate to the type rating the applicant seeks. To pass the oral and practical test for a senior parachute rigger certificate, the applicant must satisfactorily demonstrate the objectives in the areas of operation applicable to a senior parachute rigger specified in the Parachute Rigger Practical Test Standards (incorporated by reference, see § 65.23), appropriate to the type rating sought.

16. Amend § 65.119 by revising paragraph (c) to read as follows:

§ 65.119 Master parachute rigger certificate: Experience, knowledge, and skill requirements.

* * * * *

(c) Pass an oral and practical test showing the applicant's ability to pack and maintain two types of parachutes in common use, appropriate to the type ratings the applicant seeks. To pass the oral and practical test for a master parachute rigger certificate, the applicant must satisfactorily demonstrate the objectives in the areas of operation applicable to a master parachute rigger specified in the Parachute Rigger Practical Test Standards (incorporated by reference, see § 65.23), as appropriate to the type rating sought.

17. Amend § 65.123 by revising paragraph (b) to read as follows:

§ 65.123 Additional type ratings: Requirements.

* * * * *

(b) Pass a practical test, to the satisfaction of the Administrator, showing the applicant's ability to pack and maintain the type of parachute, appropriate to the type rating sought. To pass the practical test for an additional type rating, the applicant must satisfactorily demonstrate the objectives in the area of operation specified in the Parachute Rigger Practical Test Standards (incorporated by reference, see § 65.23), applicable to the type rating sought.

Issued under authority provided by 49 U.S.C. 106(f), 44701(a), and 44703 in Washington, DC, on or about December 2, 2022.
Caitlin Locke,
Acting Deputy Executive Director, Flight Standards Service.

[FR Doc. 2022-26762 Filed 12-9-22; 8:45 am]

BILLING CODE 4910-13-P